DEPARTMENT OF HEALTH AND HUMAN SERVICES

Centers for Medicare & Medicaid Services

42 CFR Parts 412 and 413

[CMS-1470-CN]

RIN 0938-AL89

Medicare Program; Changes to the Hospital Inpatient Prospective Payment Systems and Fiscal Year 2004 Rates; Correction

AGENCY: Centers for Medicare & Medicaid Services (CMS), HHS.

ACTION: Correction of final rule.

SUMMARY: This document corrects technical errors that appeared in the final rule published in the Federal Register on August 1, 2003 entitled “Medicare Program; Changes to the Hospital Inpatient Prospective Payment Systems and Fiscal Year 2004 Rates.” These corrections include—(1) An error in the assignment of procedures to diagnosis-related group (DRG) 525, Heart Assist System Implant; (2) a technical error in the new technology add-on payment amount for InFUSE ™ Bone Graft/LT-CAGE ™ Lumbar Tapered Fusion Device (InFUSE ™); and (3) technical errors in the wage index values and geographic reclassifications. As a result of the wage index and geographic reclassification corrections, we have recalculated the budget neutrality factors applicable to the operating national average standardized amounts and the capital Federal rate, which resulted in changes to the standardized amounts themselves.

EFFECTIVE DATES: The corrections listed in this document are effective on October 1, 2003.

FOR FURTHER INFORMATION CONTACT: Margot Blige Holloway, (410) 786-4642.

SUPPLEMENTARY INFORMATION:

I. Background

In FR Doc. 03-19363 of August 1, 2003 (68 FR 45346), there was a factual error and a number of technical errors that are identified and corrected in the Correction of Errors section (section II) of this document. There are also typographical errors that are identified and corrected in section II of this document.

We are correcting the assignment of procedures to DRG 525 in light of the much lower charges associated with code 37.62. We are also correcting a factual error in our response to a comment we received stating that the DRG assignment of International Classification of Diseases, Ninth Revision, Clinical Modification (ICD-9-CM) procedure codes to DRG 525 is clinically and financially inappropriate. Our response stated that this point had not been raised prior to this year's proposed rule. However, our response was incorrect. In fact, a commenter did point out in response to our proposal to create DRG 525 for FY 2003 that ICD-9-CM procedure code 37.62 was clinically and financially dissimilar to other procedures in DRG 525, and recommended this procedure code not be included in DRG 525 but should remain in DRGs 104 and 105, Cardiac Valve and Other Major Cardiothoracic Procedures With and Without Cardiac Catheterization. (See the August 1, 2002 Federal Register (68 FR 49991) for the detailed discussion of the comment and our response.)

We will remove all cases with code 37.62 from DRG 525, and reassign them to DRGs 104 and 105, respectively. Procedure codes 37.63 (Replacement and repair of heart assist system), 37.65 (Implant of an external, pulsatile heart assist system), and 37.66 (Implant of an implantable, pulsatile heart assist system) will continue to be assigned to DRG 525. This change will increase the relative weight and the payments for cases assigned to DRG 525. We now believe this correction is necessary to ensure adequate access to procedures in this DRG. As a result of these corrections, we are also making corrections to the relative weights and the geometric and arithmetic mean length of stay listed in Table 5 of the final rule. Although this change will be effective for discharges occurring on or after October 1, 2003, it requires the issuance of revised GROUPER software. At this time, we do not anticipate revised GROUPER software will be available until at least January 1, 2004. Affected claims may be resubmitted for adjusted payments after that date.

One of the technical errors involved our discussion of the approval of InFUSE ™ Bone Graft/LT-CAGE ™ Lumbar Tapered Fusion Device (InFUSE ™) as a new technology eligible add-on payment. In that discussion, we mistakenly indicated that a single level fusion required the use of two InFUSE products, with a total cost of $17,800. Based on further review of the costs associated with this technology, we have determined that only one InFUSE product is required for a single level fusion. Accordingly, we are correcting the maximum add-on payment for a case involving the InFUSE ™ to be $4,450. In addition, we have recomputed the budget neutrality adjustment factor under section 1886(d)(4)(C)(iii) to reflect the lower estimate of the total add-on payments for this new technology.

The technical errors also included several errors in the calculation of the wage index. These errors were due to the mishandling or miscalculation of data by CMS and the fiscal intermediaries. Therefore, we are making corrections to some of the average hourly wages shown in Table 2 for individual hospitals and to the corresponding average hourly wages shown in Table 3A of the Metropolitan Statistical Areas (MSA) where those hospitals are located. At least one of the computational errors also has a spill-over effect on hospitals other than the hospitals that were the subjects of the error. This error involved a few hospitals whose wage indexes were calculated as if their cost reporting periods equaled 1 month (even though the hospitals had reported a full 12 months of data). As we explained in the August 1, 2003 final rule, we annualize short cost-reporting periods to reflect a 1-year period (68 FR 45399). Annualization is accomplished by dividing the data by the number of days in the cost report and then multiplying the results by 365, and such annualization resulted in a wage index for the subject hospitals inflated by a factor of approximately 12. Correcting the error results in a decrease to the national average hourly wage rate and a concurrent general increase in the wage indexes. Consequently, we are republishing Tables 4A through 4H, reflecting corrections to hospitals' wage indexes.

After the publication of the August 1, 2003 final rule, we were notified of a wage index data error for rural Georgia. These errors appear in the average hourly wages listed in Table 2 and in the Table 3B (Wage Index and Capital Geographic Adjustment Factor (GAF) for Rural Areas). The errors in the average hourly wage were a result of the use of an incorrect data file. In this notice, we are correcting the average hourly wage listed in Tables 2 and 3B. However, because we did not receive notification regarding the error in enough time to make corrections to the rural Georgia wage index effective for discharges on or after October 1, 2003, we are not correcting the corresponding wage index values (which are listed in Tables 4B and 4H) in this document. These corrections will be issued in a future program memorandum and made effective prospectively with discharges occurring on or after January 1, 2004.

Also, there were technical errors in the geographic reclassifications that will result in corrections to the reclassification data displayed in Table 9 of the August 1, 2003 final rule. We note that wage index changes and geographic reclassifications are required to be budget neutral under sections 1886(d)(3)(E) and 1886(d)(8)(D) of the Social Security Act (the Act). Similarly, section 412.308(c)(4) of the regulations requires that the capital standard Federal rate be adjusted so that the annual DRG reclassification and the recalibration of DRG weights and changes in the geographic adjustment factor (GAF) are budget neutral. Therefore, in order to comply with the statutory and regulatory requirements for overall budget neutrality, we recalculated the budget neutrality factors applied to operating national average standardized amounts and the capital Federal rate. Because the wage indexes generally increased across all hospitals, the budget neutrality calculations caused the standardized amounts to decrease slightly. We have also corrected the relevant columns of Table I from the impact analysis in Appendix A to reflect these corrections to the wage index and standardized amounts. In addition, we are correcting a typographical error in the same table. We note that this correction is essentially nullified by the wage index corrections. However, we want to point out the value of the published figure should have been positive rather than negative (see correction to page 45662). Finally, we note that total payments to hospitals under IPPS are relatively unaffected by changes in prospective payments for capital-related costs. Since capital PPS payments constitute about 10 percent of hospital payments, a 1-percent change in the capital Federal rate yields only about 0.1 percent change in actual payments to hospitals. Thus, the impact of the −0.31 percent change in the FY 2004 capital Federal rate is negligible.

Lastly, we are republishing Table 10, Mean and .75 Standard Deviation by Diagnosis-Related Group in its entirety, due to the inadvertent publication of the incorrect version of Table 10 in the final rule.

II. Correction of Errors

In FR Doc. 03-19363 of August 1, 2003 (68 FR 45346), make the following corrections:

1. On page 45370,

a. First column, second and third full paragraphs, the paragraphs beginning with the phrases “Response: In response to comments” and “While we recognize the significant” are corrected to read “Response: We agree it is appropriate to correct the assignment of procedures to DRG 525 in light of the lower charges associated with procedure code 37.62. Therefore, we are moving code 37.62 into DRGs 104 and 105, and leaving procedure codes 37.63, 37.65, and 37.66 in DRG 525.”;

b. First column last paragraph, lines 1 through 3, the sentence “Furthermore, the volume and mix of cases in this DRG is likely to change over the next year” is corrected by deleting the sentence; and

c. Second column, first full paragraph, last line, the phrase “revising DRG 525.” is corrected to read “any further revisions to these DRG assignments.”.

2. On page 45371, first column, third full paragraph, line 3, the phrase “increase the harge” is corrected to read “increase the charge”.

3. On page 45386, third column, first full paragraph, lines 5, the phrase “such item” is corrected to read “such items”.

4. On page 45390,

a. Second column,

(1) First partial paragraph, last line, sentences are added to read “We note that, InFUSE™ Bone Graft/LT-CAGE™ Lumbar Tapered Fusion Device with recombinant human bone morphogenetic protein (rhBMP) 2 is the only rhBMP technology that has applied and met the criteria for the new technology add-on payment. Therefore, the add-on payments will apply only to this technology”;

(2) Second full paragraph, lines 6 through 19, the sentences, “The average cost of the InFUSE™ is reported to be $8,900, and a single level fusion requires two of the products. Therefore, the total cost for the InFUSE™ for a single-level fusion is expected to be $17,800. Under § 412.88(a)(2), new technology add-on payments are limited to the lesser of 50 percent of the average cost of the device or 50 percent of the costs in excess of the DRG payment for the case. As a result, the maximum add-on payment for a case involving the InFUSE™ is $8,900.” are corrected to read “The average cost of the InFUSE™ is reported to be $8,900 for a single level fusion. Under § 412.88(a)(2), new technology add-on payments are limited to the lesser of 50 percent of the average cost of the device or 50 percent of the costs in excess of the DRG payment for the case. As a result the maximum add-on payment for a case involving the InFUSE™ is $4,450.”; and

(3) Third full paragraph,

(a) Line 11, the figure “$8,900” is corrected to read “$4,450”; and

(b) Line 14, the figure “$4.4 million” is corrected to read “$2.2 million”.

b. Third column, first full paragraph, line 2, the phrase “meet the cost” is corrected to read “meets the cost”.

5. On page 45399,

a. First column, fourth full paragraph, line 9, the figure “$24.8076” is corrected to read “$24.7202”; and

b. Second column, first full paragraph, line 16, the figure “$11.5905” is corrected to read “$11.6030”.

6. On page 45410, first column, second full paragraph, line 3, the phrase “Of the three DRGs that” is corrected to read “Of these ten, three DRGs”.

7. On page 45413, table at the top of the page, line 19 (DRG 468), fifth column, the figure “7.07” is corrected to read “-7.07”.

8. On page 45416, third column, third paragraph, lines 12 through 13, the parenthetical phrase “(68 FR 37202 through 37204).” is corrected to read “(68 FR 27202 through 27204).”.

9. On page 45446, first column,

a. Lines 46 through 49, the phrase “agreements that will allow hospitals to continue counting residents training in nonhospital sites for indirect and direct GME.” is corrected by italicizing it to read “agreements that will allow hospitals to continue counting residents training in nonhospital sites for indirect and direct GME.”;

b. Lines 51 through 54, the sentence “We do not believe that the agreements regarding these financial transactions will necessitate changes in the placement and training of residents.” is corrected by italicizing it to read “We do not believe that the agreements regarding these financial transactions will necessitate changes in the placement and training of residents.”; and

c. Lines 60 through 64, the sentence “Currently the hospital is able to count the resident even though the costs for that resident may be lower during the time when the resident trains outside the hospital.” is corrected by italicizing it to read “Currently the hospital is able to count the resident even though the costs for that resident may be lower during the time when the resident trains outside the hospital.”.

10. On page 45453, second column, line 19, the phrase “condone, cost” is corrected to read “condoned, cost”.

§ 413.86 [Corrected]

11. On page 45472, first column, lines 3 and 4, the phrase “T. Redesignating paragraphs (i) and (j) as paragraphs (j) and (k), respectively,” is corrected to read “Redesignating paragraphs (i), (j), and (k) as paragraphs (j), (k), and (l), respectively,”.

12. On page 45475, third column, fifth paragraph, line 9, the figure “$14.4 million” is corrected to read “$12.2 million”.

13. On page 45476, first column,

a. First full paragraph, line 3, the figure “1.005522” is corrected to read “1.002588”; and

b. Fourth full paragraph, line 16, the amount “0.992026” is corrected to read “0.991636”.

14. On pages 45478 through 45479, the untitled table is corrected to read as follows:

| Large urban | Other areas
FY 2003 Base Rate (after removing reclassification budget neutrality and outlier offset) | Labor—$3,213.66 Nonlabor—$1,306.26 | Labor—$3,162.78 Nonlabor—$1,285.58
FY 2004 Update Factor | 1.034 | 1.034
FY 2004 DRG Recalibrations and Wage Index Budget Neutrality Factor | 1.002588 | 1.002588
FY 2004 Reclassification Budget Neutrality Factor | 0.991636 | 0.991636
Adjusted for Blend of FY 2003 DRG Recalibration and Wage Index Budget Neutrality Factors (factor of 0.993209 effective October 1, 2002; factor of 0.993012 effective April 1, 2003) | Labor—$3,331.20 Nonlabor—$1,354.03 | Labor—$3,278.45 Nonlabor—$1,332.60
FY 2004 Outlier Factor | 0.949460 | 0.949460
Rate for FY 2004 (after multiplying FY 2003 base rate by above factors) | Labor—$3,136.39 Nonlabor—$1,274.85 | Labor—$3,086.73 Nonlabor—$1,254.67

15. On page 45479, third column, sixth full paragraph, line 16, the figure “1.005522” is corrected to be “1.002588”.

16. On page 45481, first column,

a. First partial paragraph, line 12, the figure “$415.47” is corrected to read “$414.18”; and

b. First full paragraph, line 5, the figure “2.10” is corrected to read “1.78”.

17. On page 45482,

a. Second column, third paragraph,

(1) Line 11, the figure “4.79” is corrected to read “4.77”; and

(2) Line 15, the figure “0.9521” is corrected to read “0.9523”.

b. Third column, first paragraph,

(1) Line 4, the figures “1.0055” and “0.9521” are corrected to read “1.0057” and “0.9523”, respectively; and

(2) Line 6, the figure “0.55” is corrected to read “0.57”.

18. On page 45483,

a. Top of the page,

(1) Second column,

(a) Line 6, the figure “1.0002” is corrected to read “1.0003”; and

(b) Line 9, the figure “0.9965” is corrected to read “0.9966”.

(2) Third column, line 10, the figures “0.9941” and “0.9973” are corrected to read “0.9908” and “0.9974”, respectively.

b. Center of the page, in the table entitled Budget Neutrality Adjustment for DRG Reclassifications and Recalibration and the Geographic Adjustment Factors, the last line of the table (Fiscal Year 2004) is corrected to read as follows:

Fiscal year | National: Incremental adjustment: Geographic adjustment factor | National: Incremental adjustment: DRG reclassifications and recalibration | National: Incremental adjustment: Combined | National: Cumulative | Puerto Rico: Incremental adjustment: Geographic adjustment factor | Puerto Rico: Incremental adjustment: DRG Reclassifications and recalibration | Puerto Rico: Incremental adjustment: Combined | Puerto Rico: Cumulative
2004 | ⁸ 1.00175 | 1.00081 | ⁸ 1.00256 | 0.99083 | ⁸ 1.00028 | ⁸ 1.00081 | ⁸ 1.00109 | 0.99736

b. Lower third of the page,

(1) Second column, second paragraph, line 6, the figure “1.0059” is corrected to read “1.0026”;

(2) Third column, first partial paragraph,

(a) Line 5, the figure “1.0059” is corrected to read “1.0026”;

(b) Line 7, the figure “0.9941” is corrected to read “0.9908”;

(c) Line 13, the figure “1.0059” is corrected to read “1.0026”; and

(d) Line 14, the figure “0.9941” is corrected to read “0.9908”.

19. On page 45485,

a. Top of the page,

(1) Second column, first partial paragraph,

(a) Line 4, the figure “$415.47” is corrected to read “$414.18”;

(b) Line 13, the figure “1.0059” is corrected to read “1.0026”; and

(c) Line 15, the figure “0.9521” is corrected to read “0.9523”.

(2) Third column, first full paragraph,

(a) Line 11, the figure “0.59” is corrected to read “0.26”;

(b) Line 13, the figure “0.55” is corrected to read “0.57”; and

(c) Line 21, the figure “2.10” is corrected to read “1.78”.

b. Upper half of the page, the table entitled Comparison of Factors and Adjustments: FY 2003 Capital Federal Rate and FY 2004 Capital Federal Rate, the table is corrected to read as follows:

| FY 2003 | FY 2004 | Change | Percent change
Update factor ¹ | 1.0110 | 1.0070 | 1.0070 | 0.70
GAF/DRG Adjustment Factor ¹ | 0.9957 | 1.0026 | 1.0026 | 0.26
Outlier Adjustment Factor ² | 0.9469 | 0.9523 | 1.0057 | 0.57
Exceptions Adjustment Factor ² | 0.9970 | 0.9995 | 1.0025 | 0.25
Capital Federal Rate | $406.93 | $414.18 | ³ 1.0178 | ³ 1.78
¹ The update factor and the GAF/DRG budget neutrality factors are built permanently into the capital rates. Thus, for example, the incremental change from FY 2003 to FY 2004 resulting from the application of the 1.0026 GAF/DRG budget neutrality factor for FY 2004 is 1.0026.
² The outlier reduction factor and the exceptions adjustment factor are not built permanently into the capital rates; that is, these factors are not applied cumulatively in determining the capital rates. Thus, for example, the net change resulting from the application of the FY 2004 outlier adjustment factor is 0.9523/0.9469, or 1.0057.
³ The percent change in factors and adjustments may not sum due to rounding.

c. Lower half of the page, the table entitled Comparison of Factors and Adjustments: FY 2004 Proposed Capital Federal Rate and FY 2004 Final Capital Federal Rate, the following entries are corrected to read as follows:

| Proposed FY 2004 | Final FY 2004 | Change | Percent change
GAF/DRG Adjustment Factor | 1.0038 | 1.0026 | 0.9988 | −0.12
Outlier Adjustment Factor | 0.9455 | 0.9523 | 1.0072 | 0.72
Capital Federal Rate | $411.72 | $414.18 | 1.0060 | 0.60

d. Bottom of the page, third column, first partial paragraph,

(1) Line 3, the figure “1.0002” is corrected to read “1.0003”; and

(2) Line 5, the figure “0.9973” is corrected to read “0.9974”.

20. On page 45486, first column, first full paragraph, last line, the figure “$203.15” is corrected to read “$203.17”.

21. On page 45487, third column, line 45, the title, “Table 6E.—vised Diagnosis Code Titles” is corrected to read “Table 6E.—Revised Diagnosis Code Titles”.

22. On page 45488,

a. In Table 1A—National Adjusted Operating Standardized Amounts, Labor/Nonlabor, the table is corrected to read as follows:

Table 1A.—National Adjusted Operating Standardized Amounts, Labor/Nonlabor
Large urban areas: Labor-related | Large urban areas: Nonlabor-related | Other Areas: Labor-related | Other Areas: Nonlabor-related
$3,136.39 | $1,274.85 | $3,086.73 | $1,254.67

b. In Table 1C—Adjusted Operating Standardized Amounts for Puerto Rico, Labor/Nonlabor, the table is corrected to read as follows:

Table 1C.—Adjusted Operating Standardized Amounts for Puerto Rico, Labor/Nonlabor
| Large urban areas: Labor | Large urban areas: Nonlabor | Other areas: Labor | Other areas: Nonlabor
National | $3,110.02 | $1,264.14 | $3,110.02 | $1,264.14
Puerto Rico | 1,509.57 | 607.64 | 1,485.68 | 598.02

c. In Table 1D—Capital Standard Federal Payment Rate, the table is corrected to read as follows:

Table 1D.—Capital Standard Federal Payment Rate
| Rate
National | $414.18
Puerto Rico | 203.17

23. On page 45504, in Table 2—Hospital Average Hourly Wage for Federal Fiscal Years 2002 (1998 Wage Data), 2003 (1999 Wage Data), and 2004 (2000 Wage Data) Wage Indexes and 3-Year Average of Hospital Average Hourly Wages, line 29 (provider number 110063),

a. Fourth column, the figure “25.0270”, is corrected to read “19.4401”; and

b. Fifth column, the figure “24.4605” is corrected to read “18.6913”.

24. On page 45514, in Table 2—Hospital Average Hourly Wage for Federal Fiscal Years 2002 (1998 Wage Data), 2003 (1999 Wage Data), and 2004 (2000 Wage Data) Wage Indexes and 3-Year Average of Hospital Average Hourly Wages, line 3 (provider number 170020), fifth column, the figure “9.3514”, is corrected to read “19.3514”.

25. On page 45521, in Table 2—Hospital Average Hourly Wage for Federal Fiscal Years 2002 (1998 Wage Data), 2003 (1999 Wage Data), and 2004 (2000 Wage Data) Wage Indexes and 3-Year Average of Hospital Average Hourly Wages, line 19 (provider number 220077),

a. Fourth column, the figure “26.7020” is corrected to read “27.0946”; and

b. Fifth column, the figure “26.6704” is corrected to read “26.8042”.

26. On page 45535, in Table 2—Hospital Average Hourly Wage for Federal Fiscal Years 2002 (1998 Wage Data), 2003 (1999 Wage Data), and 2004 (2000 Wage Data) Wage Indexes and 3-Year Average of Hospital Average Hourly Wages,

a. Line 42 (provider number 330107),

(1) Fourth column, the figure “29.7378” is corrected to read “29.1958”; and

(2) Fifth column, the figure “29.5391” is corrected to read “28.6349”.

b. Line 56 (provider number 330133),

(1) Fourth column, the figure “35.9692” is corrected to read “35.3136”; and

(2) Fifth column, the figure should read, “35.9945” is corrected to read “35.8603”.

c. Line 64 (provider number 330152),

(1) Fourth column, the figure “32.9336” is corrected to read “32.3332”.; and

(2) Fifth column, the figure “32.8160” is corrected to read “32.2000”.

27. On page 45541, in Table 2—Hospital Average Hourly Wage for Federal Fiscal Years 2002 (1998 Wage Data), 2003 (1999 Wage Data), and 2004 (2000 Wage Data) Wage Indexes and 3-Year Average of Hospital Average Hourly Wages, line 62 (provider number 360118),

a. Fourth column, the figure “*” is corrected to read “23.0071”; and

b. Fifth column, the figure “20.4951” is corrected to read “21.3647”.

28. On page 45549, in Table 2—Hospital Average Hourly Wage for Federal Fiscal Years 2002 (1998 Wage Data), 2003 (1999 Wage Data), and 2004 (2000 Wage Data) Wage Indexes and 3-Year Average of Hospital Average Hourly Wages,

a. Line 19 (provider number 400019),

(1) Fourth column, the figure “13.6516” is corrected to read “13.7007”; and

(2) Fifth column, the figure “12.2168” is corrected to read “12.2324”.

b. Line 32 (provider number 400098),

(1) Fourth column, the figure “13.5901” is corrected to read “13.8036”; and

(2) Fifth column, the figure “11.0612” is corrected to read “11.1197”.

c. Line 38 (provider number 400109),

(1) Fourth column, the figure “12.8886” is corrected to read “12.8921”; and

(2) Fifth column, the figure “12.3304” is corrected to read “12.3316”.

d. Line 51 (provider number 400124),

(1) Fourth column, the figure “14.1627” is corrected to read “14.3496”; and

(2) Fifth column, the figure “13.0714” is corrected to read “13.1360”.

e. Line 52 (provider number 400125),

(1) Fourth column, the figure “10.5811” is corrected to read “10.6642”; and

(2) Fifth column, the figure “10.4664” is corrected to read “10.4990”.

29. On page 45567, in Table 3A—FY 2004 and 3-Year Average Hourly Wage for Urban Areas,

a. Second set of columns, second line from the bottom (Mansfield, OH),

(1) Second column, the figure “20.3677” is corrected to read “22.6801”; and

(2) Third column, the figure “20.0909” is corrected to read “20.9208”.

b. Third set of columns,

(1) Line 25 (Nassau-Suffolk, NY),

(a) Second column, the figure “32.0836” is corrected to read “32.4665”; and

(b) Third column, the figure “31.2325” is corrected to read “31.3135”.

(2) Line 33 (New York, NY),

(1) Second column, the figure “34.5159” is corrected to read “34.6338”; and

(2) Third column, the figure “33.4648” is corrected to read “33.4208”.

30. On page 45568, in Table 3A—FY 2004 and 3-Year Average Hourly Wage for Urban Areas,

a. First set of columns, line 37 (San Juan-Bayamon, PR),

(1) Second column, the figure “12.1065” is corrected to read “12.1291”; and

(2) Third column, the figure “11.2275” is corrected to read “11.2346”.

b. Second set of columns, line 3 (Springfield, MA),

(1) Second column, the figure “25.8461” is corrected to read “26.0499”; and

(2) Third column, the figure “25.1765” is corrected to read “25.2463”.

31. On page 45568, in Table 3B—FY 2004 and 3-Year* Average Hourly Wage for Rural Areas, line 10 (Georgia),

a. Third column, the figure “21.2360” is corrected to read “20.6779”; and

b. Fourth column, the figure “19.6529” is corrected to read “19.4073”.

32. On pages 45569 through 45576, in Table 4A—Wage Index and Capital Geographic Adjustment Factor (GAF) for Urban Areas, the table is corrected to read as follows:

Table 4A.—Wage Index and Capital Geographic Adjustment Factor (GAF) for Urban Areas
Urban area (constituent counties) | Wage index | GAF
0040 ² Abilene, TX | 0.7780 | 0.8421
Taylor, TX
0060 Aguadilla, PR | 0.4306 | 0.5616
Aguada, PR
Aguadilla, PR
Moca, PR
0080 Akron, OH | 0.9442 | 0.9614
Portage, OH
Summit, OH
0120 Albany, GA | 1.0863 | 1.0583
Dougherty, GA
Lee, GA
0160 ² Albany-Schenectady-Troy, NY | 0.8526 | 0.8965
Albany, NY
Montgomery, NY
Rensselaer, NY
Saratoga, NY
Schenectady, NY
Schoharie, NY
0200 Albuquerque, NM | 0.9300 | 0.9515
Bernalillo, NM
Sandoval, NM
Valencia, NM
0220 Alexandria, LA | 0.8037 | 0.8610
Rapides, LA
0240 Allentown-Bethlehem-Easton, PA | 0.9721 | 0.9808
Carbon, PA
Lehigh, PA
Northampton, PA
0280 Altoona, PA | 0.8827 | 0.9181
Blair, PA
0320 Amarillo, TX | 0.8986 | 0.9294
Potter, TX
Randall, TX
0380 Anchorage, AK | 1.2351 | 1.1556
Anchorage, AK
0440 Ann Arbor, MI | 1.1074 | 1.0724
Lenawee, MI
Livingston, MI
Washtenaw, MI
0450 Anniston, AL | 0.8090 | 0.8649
Calhoun, AL
0460 ² Appleton-Oshkosh-Neenah, WI | 0.9304 | 0.9518
Calumet, WI
Outagamie, WI
Winnebago, WI
0470 Arecibo, PR | 0.4155 | 0.5480
Arecibo, PR
Camuy, PR
Hatillo, PR
0480 Asheville, NC | 0.9720 | 0.9807
Buncombe, NC
Madison, NC
0500 Athens, GA | 0.9818 | 0.9875
Clarke, GA
Madison, GA
Oconee, GA
0520 ¹ Atlanta, GA | 1.0130 | 1.0089
Barrow, GA
Bartow, GA
Carroll, GA
Cherokee, GA
Clayton, GA
Cobb, GA
Coweta, GA
DeKalb, GA
Douglas, GA
Fayette, GA
Forsyth, GA
Fulton, GA
Gwinnett, GA
Henry, GA
Newton, GA
Paulding, GA
Pickens, GA
Rockdale, GA
Spalding, GA
Walton, GA
0560 Atlantic-Cape May, NJ | 1.0795 | 1.0538
Atlantic, NJ
Cape May, NJ
0580 Auburn-Opelika, AL | 0.8494 | 0.8942
Lee, AL
0600 Augusta-Aiken, GA-SC | 0.9625 | 0.9742
Columbia, GA
McDuffie, GA
Richmond, GA
Aiken, SC
Edgefield, SC
0640 ¹ Austin-San Marcos, TX | 0.9609 | 0.9731
Bastrop, TX
Caldwell, TX
Hays, TX
Travis, TX
Williamson, TX
0680 ² Bakersfield, CA | 0.9967 | 0.9977
Kern, CA
0720 ¹ Baltimore, MD | 0.9919 | 0.9944
Anne Arundel, MD
Baltimore, MD
Baltimore City, MD
Carroll, MD
Harford, MD
Howard, MD
Queen Anne's, MD
0733 Bangor, ME | 0.9904 | 0.9934
Penobscot, ME
0743 Barnstable-Yarmouth, MA | 1.2956 | 1.1940
Barnstable, MA
0760 Baton Rouge, LA | 0.8406 | 0.8879
Ascension, LA
East Baton Rouge, LA
Livingston, LA
West Baton Rouge, LA
0840 Beaumont-Port Arthur, TX | 0.8424 | 0.8892
Hardin, TX
Jefferson, TX
Orange, TX
0860 Bellingham, WA | 1.1757 | 1.1172
Whatcom, WA
0870 Benton Harbor, MI | 0.8935 | 0.9258
Berrien, MI
0875 ¹ Bergen-Passaic, NJ | 1.1731 | 1.1155
Bergen, NJ
Passaic, NJ
0880 Billings, MT | 0.8961 | 0.9276
Yellowstone, MT
0920 Biloxi-Gulfport-Pascagoula, MS | 0.9029 | 0.9324
Hancock, MS
Harrison, MS
Jackson, MS
0960 ² Binghamton, NY | 0.8526 | 0.8965
Broome, NY
Tioga, NY
1000 Birmingham, AL | 0.9212 | 0.9453
Blount, AL
Jefferson, AL
St. Clair, AL
Shelby, AL
1010 Bismarck, ND | 0.8033 | 0.8607
Burleigh, ND
Morton, ND
1020 ² Bloomington, IN | 0.8824 | 0.9179
Monroe, IN
1040 Bloomington-Normal, IL | 0.8832 | 0.9185
McLean, IL
1080 Boise City, ID | 0.9232 | 0.9467
Ada, ID
Canyon, ID
1123 ¹ Boston-Worcester-Lawrence-Lowell-Brockton, MA-NH | 1.1233 | 1.0829
Bristol, MA
Essex, MA
Middlesex, MA
Norfolk, MA
Plymouth, MA
Suffolk, MA
Worcester, MA
Hillsborough, NH
Merrimack, NH
Rockingham, NH
Strafford, NH
1125 Boulder-Longmont, CO | 1.0049 | 1.0034
Boulder, CO
1145 Brazoria, TX | 0.8137 | 0.8683
Brazoria, TX
1150 Bremerton, WA | 1.0580 | 1.0394
Kitsap, WA
1240 Brownsville-Harlingen-San Benito, TX | 1.0303 | 1.0207
Cameron, TX
1260 Bryan-College Station, TX | 0.9019 | 0.9317
Brazos, TX
1280 ¹ Buffalo-Niagara Falls, NY | 0.9604 | 0.9727
Erie, NY
Niagara, NY
1303 Burlington, VT | 0.9704 | 0.9796
Chittenden, VT
Franklin, VT
Grand Isle, VT
1310 Caguas, PR | 0.4201 | 0.5522
Caguas, PR
Cayey, PR
Cidra, PR
Gurabo, PR
San Lorenzo, PR
1320 Canton-Massillon, OH | 0.9071 | 0.9354
Carroll, OH
Stark, OH
1350 Casper, WY | 0.9209 | 0.9451
Natrona, WY
1360 Cedar Rapids, IA | 0.8874 | 0.9215
Linn, IA
1400 Champaign-Urbana, IL | 0.9907 | 0.9936
Champaign, IL
1440 Charleston-North Charleston, SC | 0.9332 | 0.9538
Berkeley, SC
Charleston, SC
Dorchester, SC
1480 Charleston, WV | 0.8880 | 0.9219
Kanawha, WV
Putnam, WV
1520 ¹ Charlotte-Gastonia-Rock Hill, NC-SC | 0.9730 | 0.9814
Cabarrus, NC
Gaston, NC
Lincoln, NC
Mecklenburg, NC
Rowan, NC
Stanly, NC
Union, NC
York, SC
1540 Charlottesville, VA | 1.0025 | 1.0017
Albemarle, VA
Charlottesville City, VA
Fluvanna, VA
Greene, VA
1560 Chattanooga, TN-GA | 0.9086 | 0.9365
Catoosa, GA
Dade, GA
Walker, GA
Hamilton, TN
Marion, TN
1580 ² Cheyenne, WY | 0.9110 | 0.9382
Laramie, WY
1600 ¹ Chicago, IL | 1.0892 | 1.0603
Cook, IL
DeKalb, IL
DuPage, IL
Grundy, IL
Kane, IL
Kendall, IL
Lake, IL
McHenry, IL
Will, IL
1620 Chico-Paradise, CA | 1.0193 | 1.0132
Butte, CA
1640 ¹ Cincinnati, OH-KY-IN | 0.9413 | 0.9594
Dearborn, IN
Ohio, IN
Boone, KY
Campbell, KY
Gallatin, KY
Grant, KY
Kenton, KY
Pendleton, KY
Brown, OH
Clermont, OH
Hamilton, OH
Warren, OH
1660 Clarksville-Hopkinsville, TN-KY | 0.8354 | 0.8841
Christian, KY
Montgomery, TN
1680 ¹ Cleveland-Lorain-Elyria, OH | 0.9671 | 0.9774
Ashtabula, OH
Cuyahoga, OH
Geauga, OH
Lake, OH
Lorain, OH
Medina, OH
1720 Colorado Springs, CO | 0.9833 | 0.9885
El Paso, CO
1740 Columbia, MO | 0.8695 | 0.9087
Boone, MO
1760 Columbia, SC | 0.8902 | 0.9234
Lexington, SC
Richland, SC
1800 Columbus, GA-AL | 0.8694 | 0.9086
Russell, AL
Chattahoochee, GA
Harris, GA
Muscogee, GA
1840 ¹ Columbus, OH | 0.9648 | 0.9758
Delaware, OH
Fairfield, OH
Franklin, OH
Licking, OH
Madison, OH
Pickaway, OH
1880 Corpus Christi, TX | 0.8521 | 0.8962
Nueces, TX
San Patricio, TX
1890 Corvallis, OR | 1.1516 | 1.1015
Benton, OR
1900 ² Cumberland, MD-WV (MD Hospitals) | 0.9125 | 0.9392
Allegany, MD
Mineral, WV
1900 Cumberland, MD-WV (WV Hospitals) | 0.8200 | 0.8729
Allegany, MD
Mineral, WV
1920 ¹ Dallas, TX | 0.9974 | 0.9982
Collin, TX
Dallas, TX
Denton, TX
Ellis, TX
Henderson, TX
Hunt, TX
Kaufman, TX
Rockwall, TX
1950 Danville, VA | 0.9035 | 0.9329
Danville City, VA
Pittsylvania, VA
1960 Davenport-Moline-Rock Island, IA-IL | 0.8985 | 0.9293
Scott, IA
Henry, IL
Rock Island, IL
2000 Dayton-Springfield, OH | 0.9529 | 0.9675
Clark, OH
Greene, OH
Miami, OH
Montgomery, OH
2020 Daytona Beach, FL | 0.9060 | 0.9346
Flagler, FL
Volusia, FL
2030 Decatur, AL | 0.8828 | 0.9182
Lawrence, AL
Morgan, AL
2040 ² Decatur, IL | 0.8254 | 0.8769
Macon, IL
2080 ¹ Denver, CO | 1.0837 | 1.0566
Adams, CO
Arapahoe, CO
Broomfield, CO
Denver, CO
Douglas, CO
Jefferson, CO
2120 Des Moines, IA | 0.9106 | 0.9379
Dallas, IA
Polk, IA
Warren, IA
2160 ¹ Detroit, MI | 1.0101 | 1.0069
Lapeer, MI
Macomb, MI
Monroe, MI
Oakland, MI
St. Clair, MI
Wayne, MI
2180 Dothan, AL | 0.7765 | 0.8409
Dale, AL
Houston, AL
2190 Dover, DE | 0.9805 | 0.9866
Kent, DE
2200 Dubuque, IA | 0.8886 | 0.9223
Dubuque, IA
2240 Duluth-Superior, MN-WI | 1.0171 | 1.0117
St. Louis, MN
Douglas, WI
2281 Dutchess County, NY | 1.0934 | 1.0631
Dutchess, NY
2290 ² Eau Claire, WI | 0.9304 | 0.9518
Chippewa, WI
Eau Claire, WI
2320 El Paso, TX | 0.9196 | 0.9442
El Paso, TX
2330 Elkhart-Goshen, IN | 0.9783 | 0.9851
Elkhart, IN
2335 ² Elmira, NY | 0.8526 | 0.8965
Chemung, NY
2340 Enid, OK | 0.8559 | 0.8989
Garfield, OK
2360 Erie, PA | 0.8601 | 0.9019
Erie, PA
2400 Eugene-Springfield, OR | 1.1456 | 1.0976
Lane, OR
2440 ² Evansville-Henderson, IN-KY (IN Hospitals) | 0.8824 | 0.9179
Posey, IN
Vanderburgh, IN
Warrick, IN
Henderson, KY
2440 Evansville-Henderson, IN-KY (KY Hospitals) | 0.8429 | 0.8896
Posey, IN
Vanderburgh, IN
Warrick, IN
Henderson, KY
2520 Fargo-Moorhead, ND-MN | 0.9797 | 0.9861
Clay, MN
Cass, ND
2560 Fayetteville, NC | 0.8986 | 0.9294
Cumberland, NC
2580 Fayetteville-Springdale-Rogers, AR | 0.8396 | 0.8872
Benton, AR
Washington, AR
2620 Flagstaff, AZ-UT | 1.1333 | 1.0895
Coconino, AZ
Kane, UT
2640 Flint, MI | 1.0858 | 1.0580
Genesee, MI
2650 Florence, AL | 0.7797 | 0.8433
Colbert, AL
Lauderdale, AL
2655 Florence, SC | 0.8709 | 0.9097
Florence, SC
2670 Fort Collins-Loveland, CO | 1.0148 | 1.0101
Larimer, CO
2680 ¹ Ft. Lauderdale, FL | 1.0479 | 1.0326
Broward, FL
2700 Fort Myers-Cape Coral, FL | 0.9816 | 0.9874
Lee, FL
2710 Fort Pierce-Port St. Lucie, FL | 1.0124 | 1.0085
Martin, FL
St. Lucie, FL
2720 Fort Smith, AR-OK | 0.8424 | 0.8892
Crawford, AR
Sebastian, AR
Sequoyah, OK
2750 Fort Walton Beach, FL | 0.8966 | 0.9280
Okaloosa, FL
2760 Fort Wayne, IN | 0.9585 | 0.9714
Adams, IN
Allen, IN
De Kalb, IN
Huntington, IN
Wells, IN
Whitley, IN
2800 ¹ Forth Worth-Arlington, TX | 0.9359 | 0.9556
Hood, TX
Johnson, TX
Parker, TX
Tarrant, TX
2840 Fresno, CA | 1.0142 | 1.0097
Fresno, CA
Madera, CA
2880 Gadsden, AL | 0.8229 | 0.8750
Etowah, AL
2900 Gainesville, FL | 0.9693 | 0.9789
Alachua, FL
2920 Galveston-Texas City, TX | 0.9279 | 0.9500
Galveston, TX
2960 Gary, IN | 0.9410 | 0.9592
Lake, IN
Porter, IN
2975 ² Glens Falls, NY | 0.8526 | 0.8965
Warren, NY
Washington, NY
2980 Goldsboro, NC | 0.8622 | 0.9035
Wayne, NC
2985 Grand Forks, ND-MN (ND Hospitals) | 0.8636 | 0.9045
Polk, MN
Grand Forks, ND
2985 ² Grand Forks, ND-MN (MN Hospitals) | 0.9345 | 0.9547
Polk, MN
Grand Forks, ND
2995 Grand Junction, CO | 0.9921 | 0.9946
Mesa, CO
3000 ¹ Grand Rapids-Muskegon-Holland, MI | 0.9469 | 0.9633
Allegan, MI
Kent, MI
Muskegon, MI
Ottawa, MI
3040 Great Falls, MT | 0.8918 | 0.9246
Cascade, MT
3060 Greeley, CO | 0.9453 | 0.9622
Weld, CO
3080 Green Bay, WI | 0.9518 | 0.9667
Brown, WI
3120 ¹ Greensboro-Winston-Salem-High Point, NC | 0.9166 | 0.9421
Alamance, NC
Davidson, NC
Davie, NC
Forsyth, NC
Guilford, NC
Randolph, NC
Stokes, NC
Yadkin, NC
3150 Greenville, NC | 0.9167 | 0.9422
Pitt, NC
3160 Greenville-Spartanburg-Anderson, SC | 0.9335 | 0.9540
Anderson, SC
Cherokee, SC
Greenville, SC
Pickens, SC
Spartanburg, SC
3180 Hagerstown, MD | 0.9172 | 0.9425
Washington, MD
3200 Hamilton-Middletown, OH | 0.9214 | 0.9455
Butler, OH
3240 Harrisburg-Lebanon-Carlisle, PA | 0.9164 | 0.9420
Cumberland, PA
Dauphin, PA
Lebanon, PA
Perry, PA
3283 ¹,² Hartford, CT | 1.2183 | 1.1448
Hartford, CT
Litchfield, CT
Middlesex, CT
Tolland, CT
3285 ² Hattiesburg, MS | 0.7778 | 0.8419
Forrest, MS
Lamar, MS
3290 Hickory-Morganton-Lenoir, NC | 0.9242 | 0.9475
Alexander, NC
Burke, NC
Caldwell, NC
Catawba, NC
3320 Honolulu, HI | 1.1116 | 1.0751
Honolulu, HI
3350 Houma, LA | 0.7771 | 0.8414
Lafourche, LA
Terrebonne, LA
3360 ¹ Houston, TX | 0.9834 | 0.9886
Chambers, TX
Fort Bend, TX
Harris, TX
Liberty, TX
Montgomery, TX
Waller, TX
3400 Huntington-Ashland, WV-KY-OH | 0.9595 | 0.9721
Boyd, KY
Carter, KY
Greenup, KY
Lawrence, OH
Cabell, WV
Wayne, WV
3440 Huntsville, AL | 0.9245 | 0.9477
Limestone, AL
Madison, AL
3480 ¹ Indianapolis, IN | 0.9916 | 0.9942
Boone, IN
Hamilton, IN
Hancock, IN
Hendricks, IN
Johnson, IN
Madison, IN
Marion, IN
Morgan, IN
Shelby, IN
3500 Iowa City, IA | 0.9548 | 0.9688
Johnson, IA
3520 Jackson, MI | 0.8986 | 0.9294
Jackson, MI
3560 Jackson, MS | 0.8399 | 0.8874
Hinds, MS
Madison, MS
Rankin, MS
3580 Jackson, TN | 0.8984 | 0.9293
Madison, TN
Chester, TN
3600 ¹ Jacksonville, FL | 0.9563 | 0.9699
Clay, FL
Duval, FL
Nassau, FL
St. Johns, FL
3605 Jacksonville, NC | 0.8544 | 0.8978
Onslow, NC
3610 ² Jamestown, NY | 0.8526 | 0.8965
Chautauqua, NY
3620 ² Janesville-Beloit, WI | 0.9304 | 0.9518
Rock, WI
3640 Jersey City, NJ | 1.1115 | 1.0751
Hudson, NJ
3660 Johnson City-Kingsport-Bristol, TN-VA (TN Hospitals) | 0.8256 | 0.8770
Carter, TN
Hawkins, TN
Sullivan, TN
Unicoi, TN
Washington, TN
Bristol City, VA
Scott, VA
Washington, VA
3660 ² Johnson City-Kingsport-Bristol, TN-VA (VA Hospitals) | 0.8498 | 0.8945
Carter, TN
Hawkins, TN
Sullivan, TN
Unicoi, TN
Washington, TN
Bristol City, VA
Scott, VA
Washington, VA
3680 ² Johnstown, PA | 0.8378 | 0.8859
Cambria, PA
Somerset, PA
3700 Jonesboro, AR | 0.7809 | 0.8442
Craighead, AR
3710 Joplin, MO | 0.8681 | 0.9077
Jasper, MO
Newton, MO
3720 Kalamazoo-Battlecreek, MI | 1.0500 | 1.0340
Calhoun, MI
Kalamazoo, MI
Van Buren, MI
3740 Kankakee, IL | 1.0419 | 1.0285
Kankakee, IL
3760 ¹ Kansas City, KS-MO | 0.9715 | 0.9804
Johnson, KS
Leavenworth, KS
Miami, KS
Wyandotte, KS
Cass, MO
Clay, MO
Clinton, MO
Jackson, MO
Lafayette, MO
Platte, MO
Ray, MO
3800 Kenosha, WI | 0.9761 | 0.9836
Kenosha, WI
3810 Killeen-Temple, TX | 0.9159 | 0.9416
Bell, TX
Coryell, TX
3840 Knoxville, TN | 0.8820 | 0.9176
Anderson, TN
Blount, TN
Knox, TN
Loudon, TN
Sevier, TN
Union, TN
3850 Kokomo, IN | 0.9045 | 0.9336
Howard, IN
Tipton, IN
3870 ² La Crosse, WI-MN | 0.9304 | 0.9518
Houston, MN
La Crosse, WI
3880 Lafayette, LA | 0.8225 | 0.8748
Acadia, LA
Lafayette, LA
St. Landry, LA
St. Martin, LA
3920 ² Lafayette, IN | 0.8824 | 0.9179
Clinton, IN
Tippecanoe, IN
3960 Lake Charles, LA | 0.7841 | 0.8466
Calcasieu, LA
3980 ² Lakeland-Winter Haven, FL | 0.8855 | 0.9201
Polk, FL
4000 Lancaster, PA | 0.9282 | 0.9503
Lancaster, PA
4040 Lansing-East Lansing, MI | 0.9714 | 0.9803
Clinton, MI
Eaton, MI
Ingham, MI
4080 Laredo, TX | 0.8091 | 0.8650
Webb, TX
4100 Las Cruces, NM | 0.8688 | 0.9082
Dona Ana, NM
4120 ¹ Las Vegas, NV-AZ | 1.1528 | 1.1023
Mohave, AZ
Clark, NV
Nye, NV
4150 ² Lawrence, KS | 0.8074 | 0.8637
Douglas, KS
4200 Lawton, OK | 0.8267 | 0.8778
Comanche, OK
4243 Lewiston-Auburn, ME | 0.9383 | 0.9573
Androscoggin, ME
4280 Lexington, KY | 0.8685 | 0.9080
Bourbon, KY
Clark, KY
Fayette, KY
Jessamine, KY
Madison, KY
Scott, KY
Woodford, KY
4320 Lima, OH | 0.9522 | 0.9670
Allen, OH
Auglaize, OH
4360 Lincoln, NE | 1.0033 | 1.0023
Lancaster, NE
4400 Little Rock-North Little Rock, AR | 0.8923 | 0.9249
Faulkner, AR
Lonoke, AR
Pulaski, AR
Saline, AR
4420 Longview-Marshall, TX | 0.9113 | 0.9384
Gregg, TX
Harrison, TX
Upshur, TX
4480 ¹ Los Angeles-Long Beach, CA | 1.1832 | 1.1221
Los Angeles, CA
4520 ¹ Louisville, KY-IN | 0.9242 | 0.9475
Clark, IN
Floyd, IN
Harrison, IN
Scott, IN
Bullitt, KY
Jefferson, KY
Oldham, KY
4600 Lubbock, TX | 0.8272 | 0.8782
Lubbock, TX
4640 Lynchburg, VA | 0.9134 | 0.9399
Amherst, VA
Bedford, VA
Bedford City, VA
Campbell, VA
Lynchburg City, VA
4680 Macon, GA | 0.8975 | 0.9286
Bibb, GA
Houston, GA
Jones, GA
Peach, GA
Twiggs, GA
4720 Madison, WI | 1.0264 | 1.0180
Dane, WI
4800 Mansfield, OH | 0.9180 | 0.9431
Crawford, OH
Richland, OH
4840 Mayaguez, PR | 0.4795 | 0.6045
Anasco, PR
Cabo Rojo, PR
Hormigueros, PR
Mayaguez, PR
Sabana Grande, PR
San German, PR
4880 McAllen-Edinburg-Mission, TX | 0.8381 | 0.8861
Hidalgo, TX
4890 Medford-Ashland, OR | 1.0772 | 1.0522
Jackson, OR
4900 Melbourne-Titusville-Palm Bay, FL | 0.9776 | 0.9846
Brevard, Fl
4920 ¹ Memphis, TN-AR-MS | 0.9009 | 0.9310
Crittenden, AR
DeSoto, MS
Fayette, TN
Shelby, TN
Tipton, TN
4940 ² Merced, CA | 0.9967 | 0.9977
Merced, CA
5000 ¹ Miami, FL | 0.9894 | 0.9927
Dade, FL
5015 ¹ Middlesex-Somerset-Hunterdon, NJ | 1.1366 | 1.0916
Hunterdon, NJ
Middlesex, NJ
Somerset, NJ
5080 ¹ Milwaukee-Waukesha, WI | 0.9988 | 0.9992
Milwaukee, WI
Ozaukee, WI
Washington, WI
Waukesha, WI
5120 ¹ Minneapolis-St. Paul, MN-WI | 1.1001 | 1.0675
Anoka, MN
Carver, MN
Chisago, MN
Dakota, MN
Hennepin, MN
Isanti, MN
Ramsey, MN
Scott, MN
Sherburne, MN
Washington, MN
Wright, MN
Pierce, WI
St. Croix, WI
5140 Missoula, MT | 0.8884 | 0.9222
Missoula, MT
5160 Mobile, AL | 0.7994 | 0.8579
Baldwin, AL
Mobile, AL
5170 Modesto, CA | 1.1275 | 1.0856
Stanislaus, CA
5190 ¹ Monmouth-Ocean, NJ | 1.1083 | 1.0730
Monmouth, NJ
Ocean, NJ
5200 Monroe, LA | 0.7922 | 0.8526
Ouachita, LA
5240 Montgomery, AL | 0.7907 | 0.8514
Autauga, AL
Elmore, AL
Montgomery, AL
5280 ² Muncie, IN | 0.8824 | 0.9179
Delaware, IN
5330 Myrtle Beach, SC | 0.9112 | 0.9383
Horry, SC
5345 Naples, FL | 0.9790 | 0.9856
Collier, FL
5360 ¹ Nashville, TN | 0.9855 | 0.9900
Cheatham, TN
Davidson, TN
Dickson, TN
Robertson, TN
Rutherford TN
Sumner, TN
Williamson, TN
Wilson, TN
5380 ¹ Nassau-Suffolk, NY | 1.3140 | 1.2056
Nassau, NY
Suffolk, NY
5483 ¹ New Haven-Bridgeport-Stamford-Waterbury-Danbury, CT | 1.2468 | 1.1631
Fairfield, CT
New Haven, CT
5523 ² New London-Norwich, CT | 1.2183 | 1.1448
New London, CT
5560 ¹ New Orleans, LA | 0.9174 | 0.9427
Jefferson, LA
Orleans, LA
Plaquemines, LA
St. Bernard, LA
St. Charles, LA
St. James, LA
St. John The Baptist, LA
St. Tammany, LA
5600 ¹ New York, NY | 1.4018 | 1.2602
Bronx, NY
Kings, NY
New York, NY
Putnam, NY
Queens, NY
Richmond, NY
Rockland, NY
Westchester, NY
5640 ¹ Newark, NJ | 1.1518 | 1.1016
Essex, NJ
Morris, NJ
Sussex, NJ
Union, NJ
Warren, NJ
5660 Newburgh, NY-PA | 1.1509 | 1.1010
Orange, NY
Pike, PA
5720 ¹ Norfolk-Virginia Beach-Newport News, VA-NC | 0.8619 | 0.9032
Currituck, NC
Chesapeake City, VA
Gloucester, VA
Hampton City, VA
Isle of Wight, VA
James City, VA
Mathews, VA
Newport News City, VA
Norfolk City, VA
Poquoson City, VA
Portsmouth City, VA
Suffolk City, VA
Virginia Beach City VA
Williamsburg City, VA
York, VA
5775 ¹ Oakland, CA | 1.5119 | 1.3272
Alameda, CA
Contra Costa, CA
5790 Ocala, FL | 0.9728 | 0.9813
Marion, FL
5800 Odessa-Midland, TX | 0.9327 | 0.9534
Ector, TX
Midland, TX
5880 ¹ Oklahoma City, OK | 0.8984 | 0.9293
Canadian, OK
Cleveland, OK
Logan, OK
McClain, OK
Oklahoma, OK
Pottawatomie, OK
5910 Olympia, WA | 1.0963 | 1.0650
Thurston, WA
5920 Omaha, NE-IA | 0.9745 | 0.9825
Pottawattamie, IA
Cass, NE
Douglas, NE
Sarpy, NE
Washington, NE
5945 ¹ Orange County, CA | 1.1492 | 1.0999
Orange, CA
5960 ¹ Orlando, FL | 0.9654 | 0.9762
Lake, FL
Orange, FL
Osceola, FL
Seminole, FL
5990 Owensboro, KY | 0.8374 | 0.8856
Daviess, KY
6015 ² Panama City, FL | 0.8855 | 0.9201
Bay, FL
6020 Parkersburg-Marietta, WV-OH (WV Hospitals) | 0.8039 | 0.8612
Washington, OH
Wood, WV
6020 ² Parkersburg-Marietta, WV-OH (OH Hospitals) | 0.8820 | 0.9176
Washington, OH
Wood, WV
6080 ² Pensacola, FL | 0.8855 | 0.9201
Escambia, FL
Santa Rosa, FL
6120 Peoria-Pekin, IL | 0.8734 | 0.9115
Peoria, IL
Tazewell, IL
Woodford, IL
6160 ¹ Philadelphia, PA-NJ | 1.0883 | 1.0597
Burlington, NJ
Camden, NJ
Gloucester, NJ
Salem, NJ
Bucks, PA
Chester, PA
Delaware, PA
Montgomery, PA
Philadelphia, PA
6200 ¹ Phoenix-Mesa, AZ | 1.0129 | 1.0088
Maricopa, AZ
Pinal, AZ
6240 Pine Bluff, AR | 0.7865 | 0.8483
Jefferson, AR
6280 ¹ Pittsburgh, PA | 0.8901 | 0.9234
Allegheny, PA
Beaver, PA
Butler, PA
Fayette, PA
Washington, PA
Westmoreland, PA
6323 ² Pittsfield, MA | 1.0432 | 1.0294
Berkshire, MA
6340 Pocatello, ID | 0.9249 | 0.9479
Bannock, ID
6360 Ponce, PR | 0.4708 | 0.5970
Guayanilla, PR
Juana Diaz, PR
Penuelas, PR
Ponce, PR
Villalba, PR
Yauco, PR
6403 Portland, ME | 0.9949 | 0.9965
Cumberland, ME
Sagadahoc, ME
York, ME
6440 ¹ Portland-Vancouver, OR-WA | 1.1213 | 1.0816
Clackamas, OR
Columbia, OR
Multnomah, OR
Washington, OR
Yamhill, OR
Clark, WA
6483 ¹ Providence-Warwick-Pawtucket, RI | 1.0977 | 1.0659
Bristol, RI
Kent, RI
Newport, RI
Providence, RI
Washington, RI
6520 Provo-Orem, UT | 0.9976 | 0.9984
Utah, UT
6560 ² Pueblo, CO | 0.9328 | 0.9535
Pueblo, CO
6580 Punta Gorda, FL | 0.9510 | 0.9662
Charlotte, FL
6600 ² Racine, WI | 0.9304 | 0.9518
Racine, WI
6640 ¹ Raleigh-Durham-Chapel Hill, NC | 0.9959 | 0.9972
Chatham, NC
Durham, NC
Franklin, NC
Johnston, NC
Orange, NC
Wake, NC
6660 Rapid City, SD | 0.8806 | 0.9166
Pennington, SD
6680 Reading, PA | 0.9133 | 0.9398
Berks, PA
6690 Redding, CA | 1.1352 | 1.0907
Shasta, CA
6720 Reno, NV | 1.0682 | 1.0462
Washoe, NV
6740 Richland-Kennewick-Pasco, WA | 1.0609 | 1.0413
Benton, WA
Franklin, WA
6760 Richmond-Petersburg, VA | 0.9349 | 0.9549
Charles City County, VA
Chesterfield, VA
Colonial Heights City, VA
Dinwiddie, VA
Goochland, VA
Hanover, VA
Henrico, VA
Hopewell City, VA
New Kent, VA
Petersburg City, VA
Powhatan, VA
Prince George, VA
Richmond City, VA
6780 ¹ Riverside-San Bernardino, CA | 1.1348 | 1.0905
Riverside, CA
San Bernardino, CA
6800 Roanoke, VA | 0.8700 | 0.9090
Botetourt, VA
Roanoke, VA
Roanoke City, VA
Salem City, VA
6820 Rochester, MN | 1.1739 | 1.1160
Olmsted, MN
6840 ¹ Rochester, NY | 0.9430 | 0.9606
Genesee, NY
Livingston, NY
Monroe, NY
Ontario, NY
Orleans, NY
Wayne, NY
6880 Rockford, IL | 0.9666 | 0.9770
Boone, IL
Ogle, IL
Winnebago, IL
6895 Rocky Mount, NC | 0.9076 | 0.9358
Edgecombe, NC
Nash, NC
6920 ¹ Sacramento, CA | 1.1845 | 1.1229
El Dorado, CA
Placer, CA
Sacramento, CA
6960 Saginaw-Bay City-Midland, MI | 1.0032 | 1.0022
Bay, MI
Midland, MI
Saginaw, MI
6980 St. Cloud, MN | 0.9679 | 0.9779
Benton, MN
Stearns, MN
7000 ² St. Joseph, MO | 0.8056 | 0.8624
Andrew, MO
Buchanan, MO
7040 ¹ St. Louis, MO-IL | 0.9033 | 0.9327
Clinton, IL
Jersey, IL
Madison, IL
Monroe, IL
St. Clair, IL
Franklin, MO
Jefferson, MO
Lincoln, MO
St. Charles, MO
St. Louis, MO
St. Louis City, MO
Warren, MO
7080 Salem, OR | 1.0482 | 1.0328
Marion, OR
Polk, OR
7120 Salinas, CA | 1.4339 | 1.2799
Monterey, CA
7160 ¹ Salt Lake City-Ogden, UT | 0.9913 | 0.9940
Davis, UT
Salt Lake, UT
Weber, UT
7200 San Angelo, TX | 0.8535 | 0.8972
Tom Green, TX
7240 ¹ San Antonio, TX | 0.8870 | 0.9212
Bexar, TX
Comal, TX
Guadalupe, TX
Wilson, TX
7320 ¹ San Diego, CA | 1.1147 | 1.0772
San Diego, CA
7360 ¹ San Francisco, CA | 1.4514 | 1.2906
Marin, CA
San Francisco, CA
San Mateo, CA
7400 ¹ San Jose, CA | 1.4626 | 1.2974
Santa Clara, CA
7440 ¹ San Juan-Bayamon, PR | 0.4909 | 0.6143
Aguas Buenas, PR
Barceloneta, PR
Bayamon, PR
Canovanas, PR
Carolina, PR
Catano, PR
Ceiba, PR
Comerio, PR
Corozal, PR
Dorado, PR
Fajardo, PR
Florida, PR
Guaynabo, PR
Humacao, PR
Juncos, PR
Los Piedras, PR
Loiza, PR
Luguillo, PR
Manati, PR
Morovis, PR
Naguabo, PR
Naranjito, PR
Rio Grande, PR
San Juan, PR
Toa Alta, PR
Toa Baja, PR
Trujillo Alto, PR
Vega Alta, PR
Vega Baja, PR
Yabucoa, PR
7460 San Luis Obispo-Atascadero-Paso Robles, CA | 1.1429 | 1.0958
San Luis Obispo, CA
7480 Santa Barbara-Santa Maria-Lompoc, CA | 1.0441 | 1.0300
Santa Barbara, CA
7485 Santa Cruz-Watsonville, CA | 1.2942 | 1.1932
Santa Cruz, CA
7490 Santa Fe, NM | 1.0653 | 1.0443
Los Alamos, NM
Santa Fe, NM
7500 Santa Rosa, CA | 1.2877 | 1.1891
Sonoma, CA
7510 Sarasota-Bradenton, FL | 0.9971 | 0.9980
Manatee, FL
Sarasota, FL
7520 Savannah, GA | 0.9488 | 0.9646
Bryan, GA
Chatham, GA
Effingham, GA
7560 Scranton—Wilkes-Barre—Hazleton, PA | 0.8412 | 0.8883
Columbia, PA
Lackawanna, PA
Luzerne, PA
Wyoming, PA
7600 ¹ Seattle-Bellevue-Everett, WA | 1.1562 | 1.1045
Island, WA
King, WA
Snohomish, WA
7610 ² Sharon, PA | 0.8378 | 0.8859
Mercer, PA
7620 ² Sheboygan, WI | 0.9304 | 0.9518
Sheboygan, WI
7640 Sherman-Denison, TX | 0.9700 | 0.9794
Grayson, TX
7680 Shreveport-Bossier City, LA | 0.9083 | 0.9363
Bossier, LA
Caddo, LA
Webster, LA
7720 Sioux City, IA-NE | 0.8993 | 0.9299
Woodbury, IA
Dakota, NE
7760 Sioux Falls, SD | 0.9309 | 0.9521
Lincoln, SD
Minnehaha, SD
7800 South Bend, IN | 0.9821 | 0.9877
St. Joseph, IN
7840 Spokane, WA | 1.0901 | 1.0609
Spokane, WA
7880 Springfield, IL | 0.8944 | 0.9264
Menard, IL
Sangamon, IL
7920 Springfield, MO | 0.8457 | 0.8916
Christian, MO
Greene, MO
Webster, MO
8003 Springfield, MA | 1.0543 | 1.0369
Hampden, MA
Hampshire, MA
8050 State College, PA | 0.8740 | 0.9119
Centre, PA
8080 ² Steubenville-Weirton, OH-WV (OH Hospitals) | 0.8820 | 0.9176
Jefferson, OH
Brooke, WV
Hancock, WV
8080 Steubenville-Weirton, OH-WV (WV Hospitals) | 0.8398 | 0.8873
Jefferson, OH
Brooke, WV
Hancock, WV
8120 Stockton-Lodi, CA | 1.0404 | 1.0275
San Joaquin, CA
8140 ² Sumter, SC | 0.8498 | 0.8945
Sumter, SC
8160 Syracuse, NY | 0.9412 | 0.9594
Cayuga, NY
Madison, NY
Onondaga, NY
Oswego, NY
8200 Tacoma, WA | 1.1116 | 1.0751
Pierce, WA
8240 ² Tallahassee, FL | 0.8855 | 0.9201
Gadsden, FL
Leon, FL
8280 ¹ Tampa-St. Petersburg-Clearwater, FL | 0.9103 | 0.9377
Hernando, FL
Hillsborough, FL
Pasco, FL
Pinellas, FL
8320 ² Terre Haute, IN | 0.8824 | 0.9179
Clay, IN
Vermillion, IN
Vigo, IN
8360 Texarkana, AR—Texarkana, TX | 0.8150 | 0.8693
Miller, AR
Bowie, TX
8400 Toledo, OH | 0.9397 | 0.9583
Fulton, OH
Lucas, OH
Wood, OH
8440 Topeka, KS | 0.9108 | 0.9380
Shawnee, KS
8480 Trenton, NJ | 1.0517 | 1.0351
Mercer, NJ
8520 ² Tucson, AZ | 0.9270 | 0.9494
Pima, AZ
8560 Tulsa, OK | 0.9185 | 0.9434
Creek, OK
Osage, OK
Rogers, OK
Tulsa, OK
Wagoner, OK
8600 Tuscaloosa, AL | 0.8212 | 0.8738
Tuscaloosa, AL
8640 Tyler, TX | 0.9404 | 0.9588
Smith, TX
8680 ² Utica-Rome, NY | 0.8526 | 0.8965
Herkimer, NY
Oneida, NY
8720 Vallejo-Fairfield-Napa, CA | 1.3425 | 1.2235
Napa, CA
Solano, CA
8735 Ventura, CA | 1.1064 | 1.0717
Ventura, CA
8750 Victoria, TX | 0.8184 | 0.8718
Victoria, TX
8760 Vineland-Millville-Bridgeton, NJ | 1.0405 | 1.0276
Cumberland, NJ
8780 ² Visalia-Tulare-Porterville, CA | 0.9967 | 0.9977
Tulare, CA
8800 Waco, TX | 0.8394 | 0.8870
McLennan, TX
8840 ¹ Washington, DC-MD-VA-WV | 1.0904 | 1.0611
District of Columbia, DC
Calvert, MD
Charles, MD
Frederick, MD
Montgomery, MD
Prince Georges, MD
Alexandria City, VA
Arlington, VA
Clarke, VA
Culpeper, VA
Fairfax, VA
Fairfax City, VA
Falls Church City, VA
Fauquier, VA
Fredericksburg City, VA
King George, VA
Loudoun, VA
Manassas City, VA
Manassas Park City, VA
Prince William, VA
Spotsylvania, VA
Stafford, VA
Warren, VA
Berkeley, WV
Jefferson, WV
8920 ² Waterloo-Cedar Falls, IA | 0.8416 | 0.8886
Black Hawk, IA
8940 Wausau, WI | 0.9783 | 0.9851
Marathon, WI
8960 ¹ West Palm Beach-Boca Raton, FL | 0.9798 | 0.9861
Palm Beach, FL
9000 ² Wheeling, WV-OH (WV Hospitals) | 0.8018 | 0.8596
Belmont, OH
Marshall, WV
Ohio, WV
9000 ² Wheeling, WV-OH (OH Hospitals) | 0.8820 | 0.9176
Belmont, OH
Marshall, WV
Ohio, WV
9040 Wichita, KS | 0.9238 | 0.9472
Butler, KS
Harvey, KS
Sedgwick, KS
9080 Wichita Falls, TX | 0.8341 | 0.8832
Archer, TX
Wichita, TX
9140 ² Williamsport, PA | 0.8378 | 0.8859
Lycoming, PA
9160 Wilmington-Newark, DE-MD | 1.0882 | 1.0596
New Castle, DE
Cecil, MD
9200 Wilmington, NC | 0.9563 | 0.9699
New Hanover, NC
Brunswick, NC
9260 ² Yakima, WA | 1.0388 | 1.0264
Yakima, WA
9270 ² Yolo, CA | 0.9967 | 0.9977
Yolo, CA
9280 York, PA | 0.9119 | 0.9388
York, PA
9320 Youngstown-Warren, OH | 0.9214 | 0.9455
Columbiana, OH
Mahoning, OH
Trumbull, OH
9340 Yuba City, CA | 1.0196 | 1.0134
Sutter, CA
Yuba, CA
9360 ² Yuma, AZ | 0.9270 | 0.9494
Yuma, AZ
¹ Large Urban Area
² Hospitals geographically located in the area are assigned the statewide rural wage index for FY 2004.

33. On page 45576, in Table 4B—Wage Index and Capital Geographic Adjustment Factor (GAF) for Rural Areas, the table is corrected to read as follows:

Table 4B.—Wage Index and Capital Geographic Adjustment Factor (GAF) For Rural Areas
Nonurban area | Wage index | GAF
Alabama | 0.7492 | 0.8206
Alaska | 1.1886 | 1.1256
Arizona | 0.9270 | 0.9494
Arkansas | 0.7734 | 0.8386
California | 0.9967 | 0.9977
Colorado | 0.9328 | 0.9535
Connecticut | 1.2183 | 1.1448
Delaware | 0.9595 | 0.9721
Florida | 0.8855 | 0.9201
Georgia | 0.8595 | 0.9015
Hawaii | 0.9958 | 0.9971
Idaho | 0.8974 | 0.9285
Illinois | 0.8254 | 0.8769
Indiana | 0.8824 | 0.9179
Iowa | 0.8416 | 0.8886
Kansas | 0.8074 | 0.8637
Kentucky | 0.7974 | 0.8564
Louisiana | 0.7467 | 0.8187
Maine | 0.8812 | 0.9170
Maryland | 0.9125 | 0.9392
Massachusetts | 1.0432 | 1.0294
Michigan | 0.8877 | 0.9217
Minnesota | 0.9345 | 0.9547
Mississippi | 0.7778 | 0.8419
Missouri | 0.8056 | 0.8624
Montana | 0.8800 | 0.9162
Nebraska | 0.8822 | 0.9177
Nevada | 0.9806 | 0.9867
New Hampshire | 1.0030 | 1.0021
New Jersey ¹ |  |
New Mexico | 0.8270 | 0.8780
New York | 0.8526 | 0.8965
North Carolina | 0.8456 | 0.8915
North Dakota | 0.7778 | 0.8419
Ohio | 0.8820 | 0.9176
Oklahoma | 0.7537 | 0.8240
Oregon | 0.9994 | 0.9996
Pennsylvania | 0.8378 | 0.8859
Puerto Rico | 0.4018 | 0.5356
Rhode Island ¹ |  |
South Carolina | 0.8498 | 0.8945
South Dakota | 0.8195 | 0.8726
Tennessee | 0.7886 | 0.8499
Texas | 0.7780 | 0.8421
Utah | 0.8974 | 0.9285
Vermont | 0.9534 | 0.9678
Virginia | 0.8498 | 0.8945
Washington | 1.0388 | 1.0264
West Virginia | 0.8018 | 0.8596
Wisconsin | 0.9304 | 0.9518
Wyoming | 0.9110 | 0.9382
¹ All counties within the State are classified as urban.

34. On pages 45576 through 45577, in Table 4C—Wage Index and Capital Geographic Adjustment Factor (GAF) for Hospitals that are Reclassified, the table is corrected to read as follows:

Table 4C.—Wage Index and Capital Geographic Adjustment Factor (GAF) for Hospitals That Are Reclassified
Area | Wage index | GAF
Akron, OH | 0.9442 | 0.9614
Albany, GA | 1.0664 | 1.0450
Albuquerque, NM (NM hospitals) | 0.9300 | 0.9515
Albuquerque, NM (CO hospitals) | 0.9328 | 0.9535
Alexandria, LA | 0.8037 | 0.8610
Allentown-Bethlehem-Easton, PA | 0.9721 | 0.9808
Altoona, PA | 0.8827 | 0.9181
Amarillo, TX | 0.8858 | 0.9203
Anchorage, AK | 1.2351 | 1.1556
Ann Arbor, MI | 1.0846 | 1.0572
Anniston, AL | 0.7975 | 0.8565
Asheville, NC | 0.9477 | 0.9639
Athens, GA | 0.9564 | 0.9699
Atlanta, GA | 0.9990 | 0.9993
Atlantic-Cape May, NJ | 1.0531 | 1.0361
Augusta-Aiken, GA-SC | 0.9433 | 0.9608
Austin-San Marcos, TX | 0.9609 | 0.9731
Bangor, ME | 0.9904 | 0.9934
Barnstable-Yarmouth, MA | 1.2720 | 1.1791
Baton Rouge, LA | 0.8406 | 0.8879
Bellingham, WA | 1.1305 | 1.0876
Benton Harbor, MI | 0.8935 | 0.9258
Bergen-Passaic, NJ | 1.1731 | 1.1155
Billings, MT | 0.8961 | 0.9276
Biloxi-Gulfport-Pascagoula, MS | 0.8407 | 0.8880
Binghamton, NY | 0.8428 | 0.8895
Birmingham, AL | 0.9212 | 0.9453
Bismarck, ND | 0.8033 | 0.8607
Bloomington-Normal, IL | 0.8832 | 0.9185
Boise City, ID | 0.9232 | 0.9467
Boston-Worcester-Lawrence-Lowell-Brockton, MA-NH | 1.1233 | 1.0829
Burlington, VT | 0.9332 | 0.9538
Caguas, PR | 0.4201 | 0.5522
Casper, WY | 0.9209 | 0.9451
Champaign-Urbana, IL | 0.9460 | 0.9627
Charleston-North Charleston, SC | 0.9332 | 0.9538
Charleston, WV (WV Hospitals) | 0.8568 | 0.8996
Charleston, WV (OH Hospitals) | 0.8820 | 0.9176
Charlotte-Gastonia-Rock Hill, NC-SC | 0.9730 | 0.9814
Charlottesville, VA | 0.9877 | 0.9916
Chattanooga, TN-GA | 0.9086 | 0.9365
Chicago, IL | 1.0752 | 1.0509
Cincinnati, OH-KY-IN | 0.9413 | 0.9594
Clarksville-Hopkinsville, TN-KY | 0.8354 | 0.8841
Cleveland-Lorain-Elyria, OH | 0.9671 | 0.9774
Columbia, MO | 0.8557 | 0.8988
Columbia, SC | 0.8902 | 0.9234
Columbus, GA-AL | 0.8595 | 0.9015
Columbus, OH | 0.9648 | 0.9758
Corpus Christi, TX | 0.8521 | 0.8962
Corvallis, OR | 1.1241 | 1.0834
Dallas, TX | 0.9974 | 0.9982
Davenport-Moline-Rock Island, IA-IL | 0.8985 | 0.9293
Dayton-Springfield, OH | 0.9529 | 0.9675
Decatur, AL | 0.8580 | 0.9004
Denver, CO | 1.0664 | 1.0450
Des Moines, IA | 0.9106 | 0.9379
Detroit, MI | 1.0101 | 1.0069
Dothan, AL | 0.7765 | 0.8409
Duluth-Superior, MN-WI | 1.0171 | 1.0117
Elkhart-Goshen, IN | 0.9554 | 0.9692
Erie, PA | 0.8526 | 0.8965
Eugene-Springfield, OR | 1.0977 | 1.0659
Fargo-Moorhead, ND-MN | 0.9501 | 0.9656
Fayetteville, NC | 0.8817 | 0.9174
Flagstaff, AZ-UT | 1.1079 | 1.0727
Flint, MI | 1.0703 | 1.0476
Florence, AL | 0.7797 | 0.8433
Fort Collins-Loveland, CO | 1.0148 | 1.0101
Ft. Lauderdale, FL | 1.0479 | 1.0326
Fort Pierce-Port St. Lucie, FL | 1.0124 | 1.0085
Fort Smith, AR-OK | 0.8077 | 0.8639
Fort Walton Beach, FL | 0.8804 | 0.9165
Forth Worth-Arlington, TX | 0.9359 | 0.9556
Gadsden, AL | 0.8229 | 0.8750
Gainesville, FL | 0.9693 | 0.9789
Grand Forks, ND-MN | 0.8636 | 0.9045
Grand Junction, CO | 0.9921 | 0.9946
Grand Rapids-Muskegon-Holland, MI | 0.9469 | 0.9633
Great Falls, MT | 0.8918 | 0.9246
Greeley, CO | 0.9453 | 0.9622
Green Bay, WI | 0.9518 | 0.9667
Greensboro-Winston-Salem-High Point, NC | 0.9058 | 0.9345
Greenville, NC | 0.9167 | 0.9422
Hamilton-Middletown, OH | 0.9214 | 0.9455
Harrisburg-Lebanon-Carlisle, PA | 0.9164 | 0.9420
Hartford, CT | 1.1359 | 1.0912
Hickory-Morganton-Lenoir, NC | 0.9113 | 0.9384
Honolulu, HI | 1.1116 | 1.0751
Houston, TX | 0.9834 | 0.9886
Huntington-Ashland, WV-KY-OH | 0.9076 | 0.9358
Huntsville, AL | 0.9120 | 0.9389
Indianapolis, IN | 0.9916 | 0.9942
Iowa City, IA | 0.9404 | 0.9588
Jackson, MS | 0.8399 | 0.8874
Jackson, TN | 0.8819 | 0.9175
Jacksonville, FL | 0.9563 | 0.9699
Johnson City-Kingsport-Bristol, TN-VA (VA Hospitals) | 0.8498 | 0.8945
Johnson City-Kingsport-Bristol, TN-VA (KY Hospitals) | 0.8256 | 0.8770
Jonesboro, AR (AR Hospitals) | 0.7809 | 0.8442
Jonesboro, AR (MO Hospitals) | 0.8056 | 0.8624
Joplin, MO | 0.8558 | 0.8989
Kalamazoo-Battlecreek, MI | 1.0500 | 1.0340
Kansas City, KS-MO | 0.9715 | 0.9804
Knoxville, TN | 0.8820 | 0.9176
Kokomo, IN | 0.9045 | 0.9336
Lafayette, LA | 0.8225 | 0.8748
Lakeland-Winter Haven, FL | 0.8855 | 0.9201
Las Vegas, NV-AZ | 1.1401 | 1.0939
Lawton, OK | 0.8140 | 0.8686
Lexington, KY | 0.8475 | 0.8929
Lima, OH | 0.9522 | 0.9670
Lincoln, NE | 0.9597 | 0.9722
Little Rock-North Little Rock, AR | 0.8923 | 0.9249
Longview-Marshall, TX | 0.8943 | 0.9264
Los Angeles-Long Beach, CA | 1.1832 | 1.1221
Louisville, KY-IN | 0.9118 | 0.9387
Lubbock, TX | 0.8272 | 0.8782
Lynchburg, VA | 0.8941 | 0.9262
Macon, GA | 0.8975 | 0.9286
Madison, WI | 1.0117 | 1.0080
Medford-Ashland, OR | 1.0425 | 1.0289
Melbourne-Titusville-Palm Bay, FL | 0.9776 | 0.9846
Memphis, TN-AR-MS | 0.8786 | 0.9152
Miami, FL | 0.9894 | 0.9927
Milwaukee-Waukesha, WI | 0.9829 | 0.9883
Minneapolis-St. Paul, MN-WI | 1.1001 | 1.0675
Missoula, MT | 0.8884 | 0.9222
Mobile, AL | 0.7994 | 0.8579
Modesto, CA | 1.1148 | 1.0773
Monmouth-Ocean, NJ | 1.1083 | 1.0730
Monroe, LA | 0.7922 | 0.8526
Montgomery, AL | 0.7907 | 0.8514
Nashville, TN | 0.9591 | 0.9718
New Haven-Bridgeport-Stamford-Waterbury-Danbury, CT | 1.2468 | 1.1631
New Orleans, LA | 0.9174 | 0.9427
New York, NY | 1.4018 | 1.2602
Newark, NJ | 1.1518 | 1.1016
Newburgh, NY-PA | 1.1048 | 1.0706
Oakland, CA | 1.5119 | 1.3272
Odessa-Midland, TX | 0.9076 | 0.9358
Oklahoma City, OK | 0.8984 | 0.9293
Olympia, WA | 1.0963 | 1.0650
Omaha, NE-IA | 0.9745 | 0.9825
Orange County, CA | 1.1492 | 1.0999
Orlando, FL | 0.9654 | 0.9762
Peoria-Pekin, IL | 0.8734 | 0.9115
Philadelphia, PA-NJ | 1.0883 | 1.0597
Phoenix-Mesa, AZ | 1.0129 | 1.0088
Pittsburgh, PA | 0.8901 | 0.9234
Pittsfield, MA | 0.9795 | 0.9859
Pocatello, ID | 0.9249 | 0.9479
Portland, ME | 0.9658 | 0.9765
Portland-Vancouver, OR-WA | 1.1213 | 1.0816
Provo-Orem, UT | 0.9976 | 0.9984
Raleigh-Durham-Chapel Hill, NC | 0.9725 | 0.9811
Rapid City, SD | 0.8806 | 0.9166
Reading, PA | 0.8998 | 0.9302
Redding, CA | 1.1352 | 1.0907
Reno, NV | 1.0682 | 1.0462
Richland-Kennewick-Pasco, WA (WA Hospitals) | 1.0388 | 1.0264
Richland-Kennewick-Pasco, WA (ID Hospitals) | 1.0215 | 1.0147
Richmond-Petersburg, VA | 0.9349 | 0.9549
Roanoke, VA | 0.8700 | 0.9090
Rochester, MN | 1.1739 | 1.1160
Rockford, IL | 0.9441 | 0.9614
Sacramento, CA | 1.1845 | 1.1229
Saginaw-Bay City-Midland, MI | 0.9751 | 0.9829
St. Cloud, MN | 0.9679 | 0.9779
St. Joseph, MO | 0.8578 | 0.9003
St. Louis, MO-IL | 0.9033 | 0.9327
Salinas, CA | 1.4339 | 1.2799
Salt Lake City-Ogden, UT | 0.9913 | 0.9940
San Antonio, TX | 0.8870 | 0.9212
Santa Fe, NM | 0.9524 | 0.9672
Santa Rosa, CA | 1.2877 | 1.1891
Sarasota-Bradenton, FL | 0.9971 | 0.9980
Savannah, GA | 0.9488 | 0.9646
Seattle-Bellevue-Everett, WA | 1.1562 | 1.1045
Sherman-Denison, TX | 0.9203 | 0.9447
Shreveport-Bossier City, LA | 0.8937 | 0.9259
Sioux City, IA-NE (NE Hospitals) | 0.8822 | 0.9177
Sioux City, IA-NE (SD Hospitals) | 0.8785 | 0.9151
Sioux Falls, SD | 0.9184 | 0.9434
South Bend, IN | 0.9715 | 0.9804
Spokane, WA | 1.0717 | 1.0486
Springfield, IL | 0.8944 | 0.9264
Springfield, MO | 0.8259 | 0.8772
Syracuse, NY | 0.9412 | 0.9594
Tampa-St. Petersburg-Clearwater, FL | 0.9103 | 0.9377
Texarkana, AR-Texarkana, TX | 0.7969 | 0.8560
Toledo, OH | 0.9397 | 0.9583
Topeka, KS | 0.9108 | 0.9380
Tucson, AZ | 0.9270 | 0.9494
Tulsa, OK | 0.8938 | 0.9260
Tuscaloosa, AL | 0.8101 | 0.8657
Tyler, TX | 0.9155 | 0.9413
Vallejo-Fairfield-Napa, CA | 1.3425 | 1.2235
Victoria, TX | 0.8184 | 0.8718
Waco, TX | 0.8394 | 0.8870
Washington, DC-MD-VA-WV | 1.0904 | 1.0611
Waterloo-Cedar Falls, IA | 0.8416 | 0.8886
Wausau, WI | 0.9783 | 0.9851
West Palm Beach-Boca Raton, FL | 0.9798 | 0.9861
Wichita, KS | 0.9004 | 0.9307
Wichita Falls, TX | 0.8341 | 0.8832
Wilmington-Newark, DE-MD | 1.0710 | 1.0481
Wilmington, NC | 0.9424 | 0.9602
Youngstown-Warren, OH | 0.9214 | 0.9455
Rural Florida | 0.8699 | 0.9090
Rural Illinois (IA Hospitals) | 0.8416 | 0.8886
Rural Illinois (MO Hospitals) | 0.8254 | 0.8769
Rural Kentucky | 0.7974 | 0.8564
Rural Louisiana | 0.7467 | 0.8187
Rural Minnesota | 0.9345 | 0.9547
Rural Missouri | 0.8056 | 0.8624
Rural Nebraska | 0.8822 | 0.9177
Rural Nevada | 0.9276 | 0.9498
Rural New Hampshire | 1.0030 | 1.0021
Rural Texas | 0.7780 | 0.8421
Rural Washington | 1.0388 | 1.0264
Rural Wyoming | 0.8984 | 0.9293

35. On pages 45578, in Table 4F—Puerto Rico Wage Index and Capital Geographic Adjustment Factor (GAF), the table is corrected to read as follows:

Table 4F.—Puerto Rico Wage Index and Capital Geographic Adjustment Factor (GAF)
Area | Wage index | GAF | Wage index— Reclassified hospitals | GAF— Reclassified hospitals
Aguadilla, PR | 0.9170 | 0.9424 |  |
Arecibo, PR | 0.8847 | 0.9195 |  |
Caguas, PR | 0.8946 | 0.9266 | 0.8946 | 0.9266
Mayaguez, PR | 1.0211 | 1.0144 |  |
Ponce, PR | 1.0026 | 1.0018 |  |
San Juan-Bayamon, PR | 1.0453 | 1.0308 |  |
Rural Puerto Rico | 0.8557 | 0.8988 |  |

36. On pages 45578 through 45584, in Table 4G, Pre-Reclassified Wage Index for Urban Areas, the table is corrected to read as follows:

Table 4G.—Pre-Reclassified Wage Index for Urban Areas
Urban area (Constituent counties) | Wage index
0040 Abilene, TX | 0.7780
Taylor, TX
0060 Aguadilla, PR | 0.4306
Aguada, PR
Aguadilla, PR
Moca, PR
0080 Akron, OH | 0.9246
Portage, OH
Summit, OH
0120 Albany, GA | 1.0863
Dougherty, GA
Lee, GA
0160 Albany-Schenectady-Troy, NY | 0.8526
Albany, NY
Montgomery, NY
Rensselaer, NY
Saratoga, NY
Schenectady, NY
Schoharie, NY
0200 Albuquerque, NM | 0.9300
Bernalillo, NM
Sandoval, NM
Valencia, NM
0220 Alexandria, LA | 0.8019
Rapides, LA
0240 Allentown-Bethlehem-Easton, PA | 0.9721
Carbon, PA
Lehigh, PA
Northampton, PA
0280 Altoona, PA | 0.8806
Blair, PA
0320 Amarillo, TX | 0.8986
Potter, TX
Randall, TX
0380 Anchorage, AK | 1.2216
Anchorage, AK
0440 Ann Arbor, MI | 1.1074
Lenawee, MI
Livingston, MI
Washtenaw, MI
0450 Anniston, AL | 0.8090
Calhoun, AL
0460 Appleton-Oshkosh-Neenah, WI | 0.9304
Calumet, WI
Outagamie, WI
Winnebago, WI
0470 Arecibo, PR | 0.4155
Arecibo, PR
Camuy, PR
Hatillo, PR
0480 Asheville, NC | 0.9720
Buncombe, NC
Madison, NC
0500 Athens, GA | 0.9818
Clarke, GA
Madison, GA
Oconee, GA
0520 Atlanta, GA | 1.0130
Barrow, GA
Bartow, GA
Carroll, GA
Cherokee, GA
Clayton, GA
Cobb, GA
Coweta, GA
DeKalb, GA
Douglas, GA
Fayette, GA
Forsyth, GA
Fulton, GA
Gwinnett, GA
Henry, GA
Newton, GA
Paulding, GA
Pickens, GA
Rockdale, GA
Spalding, GA
Walton, GA
0560 Atlantic-Cape May, NJ | 1.0795
Atlantic, NJ
Cape May, NJ
0580 Auburn-Opelika, AL | 0.8494
Lee, AL
0600 Augusta-Aiken, GA-SC | 0.9625
Columbia, GA
McDuffie, GA
Richmond, GA
Aiken, SC
Edgefield, SC
0640 Austin-San Marcos, TX | 0.9609
Bastrop, TX
Caldwell, TX
Hays, TX
Travis, TX
Williamson, TX
0680 Bakersfield, CA | 0.9967
Kern, CA
0720 Baltimore, MD | 0.9919
Anne Arundel, MD
Baltimore, MD
Baltimore City, MD
Carroll, MD
Harford, MD
Howard, MD
Queen Anne's, MD
0733 Bangor, ME | 0.9904
Penobscot, ME
0743 Barnstable-Yarmouth, MA | 1.2956
Barnstable, MA
0760 Baton Rouge, LA | 0.8406
Ascension, LA
East Baton Rouge, LA
Livingston, LA
West Baton Rouge, LA
0840 Beaumont-Port Arthur, TX | 0.8424
Hardin, TX
Jefferson, TX
Orange, TX
0860 Bellingham, WA | 1.1757
Whatcom, WA
0870 Benton Harbor, MI | 0.8935
Berrien, MI
0875 Bergen-Passaic, NJ | 1.1692
Bergen, NJ
Passaic, NJ
0880 Billings, MT | 0.8961
Yellowstone, MT
0920 Biloxi-Gulfport-Pascagoula, MS | 0.9029
Hancock, MS
Harrison, MS
Jackson, MS
0960 Binghamton, NY | 0.8526
Broome, NY
Tioga, NY
1000 Birmingham, AL | 0.9212
Blount, AL
Jefferson, AL
St. Clair, AL
Shelby, AL
1010 Bismarck, ND | 0.7965
Burleigh, ND
Morton, ND
1020 Bloomington, IN | 0.8824
Monroe, IN
1040 Bloomington-Normal, IL | 0.8832
McLean, IL
1080 Boise City, ID | 0.9209
Ada, ID
Canyon, ID
1123 Boston-Worcester-Lawrence-Lowell-Brockton, MA-NH (NH Hospitals) | 1.1233
Bristol, MA
Essex, MA
Middlesex, MA
Norfolk, MA
Plymouth, MA
Suffolk, MA
Worcester, MA
Hillsborough, NH
Merrimack, NH
Rockingham, NH
Strafford, NH
1125 Boulder-Longmont, CO | 1.0049
Boulder, CO
1145 Brazoria, TX | 0.8137
Brazoria, TX
1150 Bremerton, WA | 1.0580
Kitsap, WA
1240 Brownsville-Harlingen-San Benito, TX | 1.0303
Cameron, TX
1260 Bryan-College Station, TX | 0.9019
Brazos, TX
1280 Buffalo-Niagara Falls, NY | 0.9604
Erie, NY
Niagara, NY
1303 Burlington, VT | 0.9704
Chittenden, VT
Franklin, VT
Grand Isle, VT
1310 Caguas, PR | 0.4158
Caguas, PR
Cayey, PR
Cidra, PR
Gurabo, PR
San Lorenzo, PR
1320 Canton-Massillon, OH | 0.9071
Carroll, OH
Stark, OH
1350 Casper, WY | 0.9110
Natrona, WY
1360 Cedar Rapids, IA | 0.8874
Linn, IA
1400 Champaign-Urbana, IL | 0.9907
Champaign, IL
1440 Charleston-North Charleston, SC | 0.9332
Berkeley, SC
Charleston, SC
Dorchester, SC
1480 Charleston, WV | 0.8880
Kanawha, WV
Putnam, WV
1520 Charlotte-Gastonia-Rock Hill, NC-SC | 0.9730
Cabarrus, NC
Gaston, NC
Lincoln, NC
Mecklenburg, NC
Rowan, NC
Stanly, NC
Union, NC
York, SC
1540 Charlottesville, VA | 1.0025
Albemarle, VA
Charlottesville City, VA
Fluvanna, VA
Greene, VA
1560 Chattanooga, TN-GA | 0.9086
Catoosa, GA
Dade, GA
Walker, GA
Hamilton, TN
Marion, TN
1580 Cheyenne, WY | 0.9110
Laramie, WY
1600 Chicago, IL | 1.0892
Cook, IL
DeKalb, IL
DuPage, IL
Grundy, IL
Kane, IL
Kendall, IL
Lake, IL
McHenry, IL
Will, IL
1620 Chico-Paradise, CA | 1.0193
Butte, CA
1640 Cincinnati, OH-KY-IN | 0.9413
Dearborn, IN
Ohio, IN
Boone, KY
Campbell, KY
Gallatin, KY
Grant, KY
Kenton, KY
Pendleton, KY
Brown, OH
Clermont, OH
Hamilton, OH
Warren, OH
1660 Clarksville-Hopkinsville, TN-KY | 0.8244
Christian, KY
Montgomery, TN
1680 Cleveland-Lorain-Elyria, OH | 0.9671
Ashtabula, OH
Cuyahoga, OH
Geauga, OH
Lake, OH
Lorain, OH
Medina, OH
1720 Colorado Springs, CO | 0.9833
El Paso, CO
1740 Columbia, MO | 0.8695
Boone, MO
1760 Columbia, SC | 0.8902
Lexington, SC
Richland, SC
1800 Columbus, GA-AL | 0.8694
Russell, AL
Chattahoochee, GA
Harris, GA
Muscogee, GA
1840 Columbus, OH | 0.9648
Delaware, OH
Fairfield, OH
Franklin, OH
Licking, OH
Madison, OH
Pickaway, OH
1880 Corpus Christi, TX | 0.8521
Nueces, TX
San Patricio, TX
1890 Corvallis, OR | 1.1516
Benton, OR
1900 Cumberland, MD-WV (WV Hospital) | 0.8200
Allegany, MD
Mineral, WV
1920 Dallas, TX | 0.9974
Collin, TX
Dallas, TX
Denton, TX
Ellis, TX
Henderson, TX
Hunt, TX
Kaufman, TX
Rockwall, TX
1950 Danville, VA | 0.9035
Danville City, VA
Pittsylvania, VA
1960 Davenport-Moline-Rock Island, IA-IL | 0.8985
Scott, IA
Henry, IL
Rock Island, IL
2000 Dayton-Springfield, OH | 0.9518
Clark, OH
Greene, OH
Miami, OH
Montgomery, OH
2020 Daytona Beach, FL | 0.9060
Flagler, FL
Volusia, FL
2030 Decatur, AL | 0.8828
Lawrence, AL
Morgan, AL
2040 Decatur, IL | 0.8254
Macon, IL
2080 Denver, CO | 1.0837
Adams, CO
Arapahoe, CO
Broomfield, CO
Denver, CO
Douglas, CO
Jefferson, CO
2120 Des Moines, IA | 0.9106
Dallas, IA
Polk, IA
Warren, IA
2160 Detroit, MI | 1.0101
Lapeer, MI
Macomb, MI
Monroe, MI
Oakland, MI
St. Clair, MI
Wayne, MI
2180 Dothan, AL | 0.7741
Dale, AL
Houston, AL
2190 Dover, DE | 0.9805
Kent, DE
2200 Dubuque, IA | 0.8886
Dubuque, IA
2240 Duluth-Superior, MN-WI | 1.0171
St. Louis, MN
Douglas, WI
2281 Dutchess County, NY | 1.0934
Dutchess, NY
2290 Eau Claire, WI | 0.9304
Chippewa, WI
Eau Claire, WI
2320 El Paso, TX | 0.9196
El Paso, TX
2330 Elkhart-Goshen, IN | 0.9783
Elkhart, IN
2335 Elmira, NY | 0.8526
Chemung, NY
2340 Enid, OK | 0.8559
Garfield, OK
2360 Erie, PA | 0.8601
Erie, PA
2400 Eugene-Springfield, OR | 1.1456
Lane, OR
2440 Evansville-Henderson, IN-KY (IN Hospitals) | 0.8824
Posey, IN
Vanderburgh, IN
Warrick, IN
Henderson, KY
2520 Fargo-Moorhead, ND-MN | 0.9797
Clay, MN
Cass, ND
2560 Fayetteville, NC | 0.8986
Cumberland, NC
2580 Fayetteville-Springdale-Rogers, AR | 0.8396
Benton, AR
Washington, AR
2620 Flagstaff, AZ-UT | 1.1333
Coconino, AZ
Kane, UT
2640 Flint, MI | 1.0858
Genesee, MI
2650 Florence, AL | 0.7747
Colbert, AL
Lauderdale, AL
2655 Florence, SC | 0.8709
Florence, SC
2670 Fort Collins-Loveland, CO | 1.0108
Larimer, CO
2680 Ft. Lauderdale, FL | 1.0163
Broward, FL
2700 Fort Myers-Cape Coral, FL | 0.9816
Lee, FL
2710 Fort Pierce-Port St. Lucie, FL | 1.0008
Martin, FL
St. Lucie, FL
2720 Fort Smith, AR-OK | 0.8424
Crawford, AR
Sebastian, AR
Sequoyah, OK
2750 Fort Walton Beach, FL | 0.8966
Okaloosa, FL
2760 Fort Wayne, IN | 0.9585
Adams, IN
Allen, IN
De Kalb, IN
Huntington, IN
Wells, IN
Whitley, IN
2800 Forth Worth-Arlington, TX | 0.9359
Hood, TX
Johnson, TX
Parker, TX
Tarrant, TX
2840 Fresno, CA | 1.0142
Fresno, CA
Madera, CA
2880 Gadsden, AL | 0.8206
Etowah, AL
2900 Gainesville, FL | 0.9693
Alachua, FL
2920 Galveston-Texas City, TX | 0.9279
Galveston, TX
2960 Gary, IN | 0.9410
Lake, IN
Porter, IN
2975 Glens Falls, NY | 0.8526
Warren, NY
Washington, NY
2980 Goldsboro, NC | 0.8622
Wayne, NC
2985 Grand Forks, ND-MN | 0.8636
Polk, MN
Grand Forks, ND
2995 Grand Junction, CO | 0.9633
Mesa, CO
3000 Grand Rapids-Muskegon-Holland, MI | 0.9469
Allegan, MI
Kent, MI
Muskegon, MI
Ottawa, MI
3040 Great Falls, MT | 0.8809
Cascade, MT
3060 Greeley, CO | 0.9372
Weld, CO
3080 Green Bay, WI | 0.9461
Brown, WI
3120 Greensboro-Winston-Salem-High Point, NC | 0.9166
Alamance, NC
Davidson, NC
Davie, NC
Forsyth, NC
Guilford, NC
Randolph, NC
Stokes, NC
Yadkin, NC
3150 Greenville, NC | 0.9098
Pitt, NC
3160 Greenville-Spartanburg-Anderson, SC | 0.9335
Anderson, SC
Cherokee, SC
Greenville, SC
Pickens, SC
Spartanburg, SC
3180 Hagerstown, MD | 0.9172
Washington, MD
3200 Hamilton-Middletown, OH | 0.9214
Butler, OH
3240 Harrisburg-Lebanon-Carlisle, PA | 0.9164
Cumberland, PA
Dauphin, PA
Lebanon, PA
Perry, PA
3283 Hartford, CT | 1.2183
Hartford, CT
Litchfield, CT
Middlesex, CT
Tolland, CT
3285 Hattiesburg, MS | 0.7778
Forrest, MS
Lamar, MS
3290 Hickory-Morganton-Lenoir, NC | 0.9242
Alexander, NC
Burke, NC
Caldwell, NC
Catawba, NC
3320 Honolulu, HI | 1.1098
Honolulu, HI
3350 Houma, LA | 0.7771
Lafourche, LA
Terrebonne, LA
3360 Houston, TX | 0.9834
Chambers, TX
Fort Bend, TX
Harris, TX
Liberty, TX
Montgomery, TX
Waller, TX
3400 Huntington-Ashland, WV-KY-OH | 0.9595
Boyd, KY
Carter, KY
Greenup, KY
Lawrence, OH
Cabell, WV
Wayne, WV
3440 Huntsville, AL | 0.9245
Limestone, AL
Madison, AL
3480 Indianapolis, IN | 0.9916
Boone, IN
Hamilton, IN
Hancock, IN
Hendricks, IN
Johnson, IN
Madison, IN
Marion, IN
Morgan, IN
Shelby, IN
3500 Iowa City, IA | 0.9548
Johnson, IA
3520 Jackson, MI | 0.8986
Jackson, MI
3560 Jackson, MS | 0.8357
Hinds, MS
Madison, MS
Rankin, MS
3580 Jackson, TN | 0.8984
Madison, TN
Chester, TN
3600 Jacksonville, FL | 0.9529
Clay, FL
Duval, FL
Nassau, FL
St. Johns, FL
3605 Jacksonville, NC | 0.8544
Onslow, NC
3610 Jamestown, NY | 0.8526
Chautauqua, NY
3620 Janesville-Beloit, WI | 0.9304
Rock, WI
3640 Jersey City, NJ | 1.1115
Hudson, NJ
3660 Johnson City-Kingsport-Bristol, TN-VA | 0.8253
Carter, TN
Hawkins, TN
Sullivan, TN
Unicoi, TN
Washington, TN
Bristol City, VA
Scott, VA
Washington, VA
3680 Johnstown, PA | 0.8378
Cambria, PA
Somerset, PA
3700 Jonesboro, AR | 0.7794
Craighead, AR
3710 Joplin, MO | 0.8681
Jasper, MO
Newton, MO
3720 Kalamazoo-Battlecreek, MI | 1.0500
Calhoun, MI
Kalamazoo, MI
Van Buren, MI
3740 Kankakee, IL | 1.0419
Kankakee, IL
3760 Kansas City, KS-MO | 0.9715
Johnson, KS
Leavenworth, KS
Miami, KS
Wyandotte, KS
Cass, MO
Clay, MO
Clinton, MO
Jackson, MO
Lafayette, MO
Platte, MO
Ray, MO
3800 Kenosha, WI | 0.9761
Kenosha, WI
3810 Killeen-Temple, TX | 0.9159
Bell, TX
Coryell, TX
3840 Knoxville, TN | 0.8820
Anderson, TN
Blount, TN
Knox, TN
Loudon, TN
Sevier, TN
Union, TN
3850 Kokomo, IN | 0.9045
Howard, IN
Tipton, IN
3870 La Crosse, WI-MN | 0.9304
Houston, MN
La Crosse, WI
3880 Lafayette, LA | 0.8207
Acadia, LA
Lafayette, LA
St. Landry, LA
St. Martin, LA
3920 Lafayette, IN | 0.8824
Clinton, IN
Tippecanoe, IN
3960 Lake Charles, LA | 0.7841
Calcasieu, LA
3980 Lakeland-Winter Haven, FL | 0.8855
Polk, FL
4000 Lancaster, PA | 0.9282
Lancaster, PA
4040 Lansing-East Lansing, MI | 0.9714
Clinton, MI
Eaton, MI
Ingham, MI
4080 Laredo, TX | 0.8091
Webb, TX
4100 Las Cruces, NM | 0.8688
Dona Ana, NM
4120 Las Vegas, NV-AZ | 1.1528
Mohave, AZ
Clark, NV
Nye, NV
4150 Lawrence, KS | 0.8074
Douglas, KS
4200 Lawton, OK | 0.8267
Comanche, OK
4243 Lewiston-Auburn, ME | 0.9383
Androscoggin, ME
4280 Lexington, KY | 0.8685
Bourbon, KY
Clark, KY
Fayette, KY
Jessamine, KY
Madison, KY
Scott, KY
Woodford, KY
4320 Lima, OH | 0.9522
Allen, OH
Auglaize, OH
4360 Lincoln, NE | 1.0033
Lancaster, NE
4400 Little Rock-North Little Rock, AR | 0.8923
Faulkner, AR
Lonoke, AR
Pulaski, AR
Saline, AR
4420 Longview-Marshall, TX | 0.9113
Gregg, TX
Harrison, TX
Upshur, TX
4480 Los Angeles-Long Beach, CA | 1.1795
Los Angeles, CA
4520 Louisville, KY-IN | 0.9242
Clark, IN
Floyd, IN
Harrison, IN
Scott, IN
Bullitt, KY
Jefferson, KY
Oldham, KY
4600 Lubbock, TX | 0.8272
Lubbock, TX
4640 Lynchburg, VA | 0.9134
Amherst, VA
Bedford, VA
Bedford City, VA
Campbell, VA
Lynchburg City, VA
4680 Macon, GA | 0.8953
Bibb, GA
Houston, GA
Jones, GA
Peach, GA
Twiggs, GA
4720 Madison, WI | 1.0264
Dane, WI
4800 Mansfield, OH | 0.9180
Crawford, OH
Richland, OH
4840 Mayaguez, PR | 0.4795
Anasco, PR
Cabo Rojo, PR
Hormigueros, PR
Mayaguez, PR
Sabana Grande, PR
San German, PR
4880 McAllen-Edinburg-Mission, TX | 0.8381
Hidalgo, TX
4890 Medford-Ashland, OR | 1.0772
Jackson, OR
4900 Melbourne-Titusville-Palm Bay, FL | 0.9776
Brevard, Fl
4920 Memphis, TN-AR-MS | 0.9009
Crittenden, AR
DeSoto, MS
Fayette, TN
Shelby, TN
Tipton, TN
4940 Merced, CA | 0.9967
Merced, CA
5000 Miami, FL | 0.9894
Dade, FL
5015 Middlesex-Somerset-Hunterdon, NJ | 1.1366
Hunterdon, NJ
Middlesex, NJ
Somerset, NJ
5080 Milwaukee-Waukesha, WI | 0.9988
Milwaukee, WI
Ozaukee, WI
Washington, WI
Waukesha, WI
5120 Minneapolis-St. Paul, MN-WI | 1.1001
Anoka, MN
Carver, MN
Chisago, MN
Dakota, MN
Hennepin, MN
Isanti, MN
Ramsey, MN
Scott, MN
Sherburne, MN
Washington, MN
Wright, MN
Pierce, WI
St. Croix, WI
5140 Missoula, MT | 0.8800
Missoula, MT
5160 Mobile, AL | 0.7994
Baldwin, AL
Mobile, AL
5170 Modesto, CA | 1.1275
Stanislaus, CA
5190 Monmouth-Ocean, NJ | 1.0956
Monmouth, NJ
Ocean, NJ
5200 Monroe, LA | 0.7922
Ouachita, LA
5240 Montgomery, AL | 0.7907
Autauga, AL
Elmore, AL
Montgomery, AL
5280 Muncie, IN | 0.8824
Delaware, IN
5330 Myrtle Beach, SC | 0.9112
Horry, SC
5345 Naples, FL | 0.9790
Collier, FL
5360 Nashville, TN | 0.9855
Cheatham, TN
Davidson, TN
Dickson, TN
Robertson, TN
Rutherford TN
Sumner, TN
Williamson, TN
Wilson, TN
5380 Nassau-Suffolk, NY | 1.3140
Nassau, NY
Suffolk, NY
5483 New Haven-Bridgeport-Stamford-Waterbury-Danbury, CT | 1.2385
Fairfield, CT
New Haven, CT
5523 New London-Norwich, CT | 1.2183
New London, CT
5560 New Orleans, LA | 0.9174
Jefferson, LA
Orleans, LA
Plaquemines, LA
St. Bernard, LA
St. Charles, LA
St. James, LA
St. John The Baptist, LA
St. Tammany, LA
5600 New York, NY | 1.4018
Bronx, NY
Kings, NY
New York, NY
Putnam, NY
Queens, NY
Richmond, NY
Rockland, NY
Westchester, NY
5640 Newark, NJ | 1.1518
Essex, NJ
Morris, NJ
Sussex, NJ
Union, NJ
Warren, NJ
5660 Newburgh, NY-PA | 1.1509
Orange, NY
Pike, PA
5720 Norfolk-Virginia Beach-Newport News, VA-NC | 0.8619
Currituck, NC
Chesapeake City, VA
Gloucester, VA
Hampton City, VA
Isle of Wight, VA
James City, VA
Mathews, VA
Newport News City, VA
Norfolk City, VA
Poquoson City, VA
Portsmouth City, VA
Suffolk City, VA
Virginia Beach City, VA
Williamsburg City, VA
York, VA
5775 Oakland, CA | 1.4921
Alameda, CA
Contra Costa, CA
5790 Ocala, FL | 0.9728
Marion, FL
5800 Odessa-Midland, TX | 0.9327
Ector, TX
Midland, TX
5880 Oklahoma City, OK | 0.8984
Canadian, OK
Cleveland, OK
Logan, OK
McClain, OK
Oklahoma, OK
Pottawatomie, OK
5910 Olympia, WA | 1.0963
Thurston, WA
5920 Omaha, NE-IA | 0.9745
Pottawattamie, IA
Cass, NE
Douglas, NE
Sarpy, NE
Washington, NE
5945 Orange County, CA | 1.1372
Orange, CA
5960 Orlando, FL | 0.9654
Lake, FL
Orange, FL
Osceola, FL
Seminole, FL
5990 Owensboro, KY | 0.8374
Daviess, KY
6015 Panama City, FL | 0.8855
Bay, FL
6020 Parkersburg-Marietta, WV-OH | 0.8039
Washington, OH
Wood, WV
6080 Pensacola, FL | 0.8855
Escambia, FL
Santa Rosa, FL
6120 Peoria-Pekin, IL | 0.8734
Peoria, IL
Tazewell, IL
Woodford, IL
6160 Philadelphia, PA-NJ | 1.0883
Burlington, NJ
Camden, NJ
Gloucester, NJ
Salem, NJ
Bucks, PA
Chester, PA
Delaware, PA
Montgomery, PA
Philadelphia, PA
6200 Phoenix-Mesa, AZ | 1.0129
Maricopa, AZ
Pinal, AZ
6240 Pine Bluff, AR | 0.7865
Jefferson, AR
6280 Pittsburgh, PA | 0.8901
Allegheny, PA
Beaver, PA
Butler, PA
Fayette, PA
Washington, PA
Westmoreland, PA
6323 Pittsfield, MA | 1.0432
Berkshire, MA
6340 Pocatello, ID | 0.9042
Bannock, ID
6360 Ponce, PR | 0.4708
Guayanilla, PR
Juana Diaz, PR
Penuelas, PR
Ponce, PR
Villalba, PR
Yauco, PR
6403 Portland, ME | 0.9949
Cumberland, ME
Sagadahoc, ME
York, ME
6440 Portland-Vancouver, OR-WA | 1.1213
Clackamas, OR
Columbia, OR
Multnomah, OR
Washington, OR
Yamhill, OR
Clark, WA
6483 Providence-Warwick-Pawtucket, RI | 1.0977
Bristol, RI
Kent, RI
Newport, RI
Providence, RI
Washington, RI
6520 Provo-Orem, UT | 0.9976
Utah, UT
6560 Pueblo, CO | 0.9328
Pueblo, CO
6580 Punta Gorda, FL | 0.9510
Charlotte, FL
6600 Racine, WI | 0.9304
Racine, WI
6640 Raleigh-Durham-Chapel Hill, NC | 0.9959
Chatham, NC
Durham, NC
Franklin, NC
Johnston, NC
Orange, NC
Wake, NC
6660 Rapid City, SD | 0.8806
Pennington, SD
6680 Reading, PA | 0.9133
Berks, PA
6690 Redding, CA | 1.1352
Shasta, CA
6720 Reno, NV | 1.0682
Washoe, NV
6740 Richland-Kennewick-Pasco, WA | 1.0609
Benton, WA
Franklin, WA
6760 Richmond-Petersburg, VA | 0.9349
Charles City County, VA
Chesterfield, VA
Colonial Heights City, VA
Dinwiddie, VA
Goochland, VA
Hanover, VA
Henrico, VA
Hopewell City, VA
New Kent, VA
Petersburg City, VA
Powhatan, VA
Prince George, VA
Richmond City, VA
6780 Riverside-San Bernardino, CA | 1.1348
Riverside, CA
San Bernardino, CA
6800 Roanoke, VA | 0.8700
Botetourt, VA
Roanoke, VA
Roanoke City, VA
Salem City, VA
6820 Rochester, MN | 1.1739
Olmsted, MN
6840 Rochester, NY | 0.9430
Genesee, NY
Livingston, NY
Monroe, NY
Ontario, NY
Orleans, NY
Wayne, NY
6880 Rockford, IL | 0.9666
Boone, IL
Ogle, IL
Winnebago, IL
6895 Rocky Mount, NC | 0.9076
Edgecombe, NC
Nash, NC
6920 Sacramento, CA | 1.1845
El Dorado, CA
Placer, CA
Sacramento, CA
6960 Saginaw-Bay City-Midland, MI | 1.0032
Bay, MI
Midland, MI
Saginaw, MI
6980 St. Cloud, MN | 0.9506
Benton, MN
Stearns, MN
7000 St. Joseph, MO | 0.8056
Andrew, MO
Buchanan, MO
7040 St. Louis, MO-IL | 0.9033
Clinton, IL
Jersey, IL
Madison, IL
Monroe, IL
St. Clair, IL
Franklin, MO
Jefferson, MO
Lincoln, MO
St. Charles, MO
St. Louis, MO
St. Louis City, MO
Warren, MO
7080 Salem, OR | 1.0482
Marion, OR
Polk, OR
7120 Salinas, CA | 1.4339
Monterey, CA
7160 Salt Lake City-Ogden, UT | 0.9913
Davis, UT
Salt Lake, UT
Weber, UT
7200 San Angelo, TX | 0.8535
Tom Green, TX
7240 San Antonio, TX | 0.8870
Bexar, TX
Comal, TX
Guadalupe, TX
Wilson, TX
7320 San Diego, CA | 1.1147
San Diego, CA
7360 San Francisco, CA | 1.4514
Marin, CA
San Francisco, CA
San Mateo, CA
7400 San Jose, CA | 1.4626
Santa Clara, CA
7440 San Juan-Bayamon, PR | 0.4909
Aguas Buenas, PR
Barceloneta, PR
Bayamon, PR
Canovanas, PR
Carolina, PR
Catano, PR
Ceiba, PR
Comerio, PR
Corozal, PR
Dorado, PR
Fajardo, PR
Florida, PR
Guaynabo, PR
Humacao, PR
Juncos, PR
Los Piedras, PR
Loiza, PR
Luguillo, PR
Manati, PR
Morovis, PR
Naguabo, PR
Naranjito, PR
Rio Grande, PR
San Juan, PR
Toa Alta, PR
Toa Baja, PR
Trujillo Alto, PR
Vega Alta, PR
Vega Baja, PR
Yabucoa, PR
7460 San Luis Obispo-Atascadero-Paso Robles, CA | 1.1429
San Luis Obispo, CA
7480 Santa Barbara-Santa Maria-Lompoc, CA | 1.0441
Santa Barbara, CA
7485 Santa Cruz-Watsonville, CA | 1.2942
Santa Cruz, CA
7490 Santa Fe, NM | 1.0653
Los Alamos, NM
Santa Fe, NM
7500 Santa Rosa, CA | 1.2877
Sonoma, CA
7510 Sarasota-Bradenton, FL | 0.9964
Manatee, FL
Sarasota, FL
7520 Savannah, GA | 0.9472
Bryan, GA
Chatham, GA
Effingham, GA
7560 Scranton-Wilkes-Barre-Hazleton, PA | 0.8412
Columbia, PA
Lackawanna, PA
Luzerne, PA
Wyoming, PA
7600 Seattle-Bellevue-Everett, WA | 1.1562
Island, WA
King, WA
Snohomish, WA
7610 Sharon, PA | 0.8378
Mercer, PA
7620 Sheboygan, WI | 0.9304
Sheboygan, WI
7640 Sherman-Denison, TX | 0.9700
Grayson, TX
7680 Shreveport-Bossier City, LA | 0.9083
Bossier, LA
Caddo, LA
Webster, LA
7720 Sioux City, IA-NE | 0.8993
Woodbury, IA
Dakota, NE
7760 Sioux Falls, SD | 0.9309
Lincoln, SD
Minnehaha, SD
7800 South Bend, IN | 0.9821
St. Joseph, IN
7840 Spokane, WA | 1.0901
Spokane, WA
7880 Springfield, IL | 0.8944
Menard, IL
Sangamon, IL
7920 Springfield, MO | 0.8457
Christian, MO
Greene, MO
Webster, MO
8003 Springfield, MA | 1.0543
Hampden, MA
Hampshire, MA
8050 State College, PA | 0.8740
Centre, PA
8080 Steubenville-Weirton, OH-WV (WV Hospitals) | 0.8398
Jefferson, OH
Brooke, WV
Hancock, WV
8120 Stockton-Lodi, CA | 1.0404
San Joaquin, CA
8140 Sumter, SC | 0.8498
Sumter, SC
8160 Syracuse, NY | 0.9412
Cayuga, NY
Madison, NY
Onondaga, NY
Oswego, NY
8200 Tacoma, WA | 1.1116
Pierce, WA
8240 Tallahassee, FL | 0.8855
Gadsden, FL
Leon, FL
8280 Tampa-St. Petersburg-Clearwater, FL | 0.9103
Hernando, FL
Hillsborough, FL
Pasco, FL
Pinellas, FL
8320 Terre Haute, IN | 0.8824
Clay, IN
Vermillion, IN
Vigo, IN
8360 Texarkana, AR-Texarkana, TX | 0.8150
Miller, AR
Bowie, TX
8400 Toledo, OH | 0.9381
Fulton, OH
Lucas, OH
Wood, OH
8440 Topeka, KS | 0.9108
Shawnee, KS
8480 Trenton, NJ | 1.0517
Mercer, NJ
8520 Tucson, AZ | 0.9270
Pima, AZ
8560 Tulsa, OK | 0.9185
Creek, OK
Osage, OK
Rogers, OK
Tulsa, OK
Wagoner, OK
8600 Tuscaloosa, AL | 0.8212
Tuscaloosa, AL
8640 Tyler, TX | 0.9404
Smith, TX
8680 Utica-Rome, NY | 0.8526
Herkimer, NY
Oneida, NY
8720 Vallejo-Fairfield-Napa, CA | 1.3377
Napa, CA
Solano, CA
8735 Ventura, CA | 1.1064
Ventura, CA
8750 Victoria, TX | 0.8184
Victoria, TX
8760 Vineland-Millville-Bridgeton, NJ | 1.0405
Cumberland, NJ
8780 Visalia-Tulare-Porterville, CA | 0.9967
Tulare, CA
8800 Waco, TX | 0.8394
McLennan, TX
8840 Washington, DC-MD-VA-WV | 1.0904
District of Columbia, DC
Calvert, MD
Charles, MD
Frederick, MD
Montgomery, MD
Prince Georges, MD
Alexandria City, VA
Arlington, VA
Clarke, VA
Culpepper, VA
Fairfax, VA
Fairfax City, VA
Falls Church City, VA
Fauquier, VA
Fredericksburg City, VA
King George, VA
Loudoun, VA
Manassas City, VA
Manassas Park City, VA
Prince William, VA
Spotsylvania, VA
Stafford, VA
Warren, VA
Berkeley, WV
Jefferson, WV
8920 Waterloo-Cedar Falls, IA | 0.8416
Black Hawk, IA
8940 Wausau, WI | 0.9692
Marathon, WI
8960 West Palm Beach-Boca Raton, FL | 0.9798
Palm Beach, FL
9000 Wheeling, WV-OH | 0.8018
Belmont, OH
Marshall, WV
Ohio, WV
9040 Wichita, KS | 0.9238
Butler, KS
Harvey, KS
Sedgwick, KS
9080 Wichita Falls, TX | 0.8341
Archer, TX
Wichita, TX
9140 Williamsport, PA | 0.8378
Lycoming, PA
9160 Wilmington-Newark, DE-MD | 1.0882
New Castle, DE
Cecil, MD
9200 Wilmington, NC | 0.9563
New Hanover, NC
Brunswick, NC
9260 Yakima, WA | 1.0388
Yakima, WA
9270 Yolo, CA | 0.9967
Yolo, CA
9280 York, PA | 0.9119
York, PA
9320 Youngstown-Warren, OH | 0.9214
Columbiana, OH
Mahoning, OH
Trumbull, OH
9340 Yuba City, CA | 1.0196
Sutter, CA
Yuba, CA
9360 Yuma, AZ | 0.9270
Yuma, AZ

37. On page 45584, in Table 4H—Pre-Reclassified Wage Index for Rural Areas, the table is corrected to read as follows:

Nonurban area | Wage index
Alabama | 0.7492
Alaska | 1.1886
Arizona | 0.9270
Arkansas | 0.7734
California | 0.9967
Colorado | 0.9328
Connecticut | 1.2183
Delaware | 0.9557
Florida | 0.8855
Georgia | 0.8595
Hawaii | 0.9958
Idaho | 0.8974
Illinois | 0.8254
Indiana | 0.8824
Iowa | 0.8416
Kansas | 0.8074
Kentucky | 0.7973
Louisiana | 0.7451
Maine | 0.8812
Maryland | 0.9125
Massachusetts | 1.0432
Michigan | 0.8877
Minnesota | 0.9330
Mississippi | 0.7778
Missouri | 0.8056
Montana | 0.8800
Nebraska | 0.8822
Nevada | 0.9806
New Hampshire | 1.0030
New Jersey ¹ |
New Mexico | 0.8270
New York | 0.8526
North Carolina | 0.8456
North Dakota | 0.7778
Ohio | 0.8820
Oklahoma | 0.7537
Oregon | 0.9994
Pennsylvania | 0.8378
Puerto Rico | 0.4018
Rhode Island ¹ |
South Carolina | 0.8498
South Dakota | 0.8195
Tennessee | 0.7886
Texas | 0.7780
Utah | 0.8974
Vermont | 0.9307
Virginia | 0.8498
Washington | 1.0388
West Virginia | 0.8018
Wisconsin | 0.9304
Wyoming | 0.9110
¹ All counties within the State are classified as urban.

38. On page 45585, in Table 5—List of Diagnosis-Related Groups (DRGs), Relative Weighting Factors, and Geometric and Arithmetic Mean Length of Stay (LOS), the fourth column (DRG Title),

a. Line 13 ((DRG 28) “Traumatic Stupor & Coma, Coma <1HR Age>17 w cc” is corrected to read “Traumatic Stupor & Coma, Coma <1HR Age>17 w cc”;

b. Line 14 line 59 (DRG 29) “Traumatic Stupor & Coma, Coma >1HR Age<17 w/o cc” is corrected to read “Traumatic Stupor & Coma, Coma <1HR Age>17 w/o cc”;

c. Line 53 (DRG 68), “Otitis Media & URI Age & gt;17 w cc” is corrected to read “Otitis Media & URI Age>17 w cc”; and

d. Line 54 (DRG 69), “Otitis Media & URI Age & gt;17 w/o cc” is corrected to read “Otitis Media & URI Age>17 w/o cc”.

39. On page 45586, in Table 5—List of Diagnosis-Related Groups (DRGs), Relative Weighting Factors, and Geometric and Arithmetic Mean Length of Stay (LOS),

a. Line 25 (DRG 104), fifth column, the figure “7.9351” is corrected to read “7.9389”; and

b. Line 27 (DRG 105), fifth column, the figure “5.7088” is corrected to read “5.7156”.

40. On page 45593, in Table 5—List of Diagnosis-Related Groups (DRGs), Relative Weighting Factors, and Geometric and Arithmetic Mean Length of Stay (LOS),

a. Line 21 (DRG 481),

(1) Sixth column, the figure “19.20” is added; and

(2) Seventh column, the figure “21.80” is added.

b. Line 22, first, second, and third columns, the figures “1”, “9.20”, and “21.80” are corrected by deleting these figures; and

c. Line 36 (DRG 492), the fourth column, the title “Chemotherapy w Acute Leukemia or w use of Hi Dose Chemoagent” is corrected to read “Chemotherapy w Acute Leukemia as Secondary Diagnosis or w use of High Dose Chemotherapy Agent”.

d. Line 49 (DRG 504),

(1) Sixth column, the figure “0.30” is corrected to read “20.30”; and

(2) Seventh column, the figure, “8.00” is corrected to read “28.00”.

41. On page 45594,

a. In Table 5—List of Diagnosis-Related Groups (DRGs), Relative Weighting Factors, and Geometric and Arithmetic Mean Length of Stay (LOS),

(1) Line 10 (DRG 525),

(a) Fifth column, the figure “11.4372” is corrected to read “14.1896”;

(b) Sixth column, the figure “8.90” is corrected to read “10.2”; and

(c) Seventh column, the figure “17.00” is corrected to read “19.6”.

b. In Table 6A—New Diagnosis Codes, first column, line 1, the figure “¹ 079.82” is corrected to read “079.821 ¹”.

42. On page 45595, in Table 6A—New Diagnosis Codes, first column,

a. Line 12, the figure “480.31” is corrected to read “480.31 ¹”; and

b. Line 17, the figure “¹ 517.3” is corrected to read “517.3”.

43. On page 45596,

a. In Table 6A—New Diagnosis Codes, first column, line 10, the figure “¹ V01.82” is corrected to read “V01.82 ¹”;

b. In Table 6B—New Procedure Codes, line 3,

(1) Column 3, the figure “5” is corrected to read “Y”;

(2) Column 4, the figure “525” is corrected to read “5”; and

(3) Column 5, the figure “525” is added.

44. On pages 45596 and 45597, table heading, the table entitled “Table 6C—Invalid Procedure Codes” is corrected to read “Table 6C—Invalid Diagnosis Codes”.

45. On pages 45638 through 45647, Table 9—Hospital Reclassifications and Redesignations by Individual Hospital—FY 2004 is corrected by—

a. Adding the following entries (in numerical order):

Provider No. | Actual MSA or rural area | Wage index MSA reclassification | Standardized amount MSA reclassification
040136 | 04 | 4400
070015 | 3283 | 5600
070036 | 3283 | 5483
140012 | 14 | 1600
340039 | 34 | 1520 | 1520
340129 | 34 | 1520
340131 | 34 | 3150
340144 | 34 | 1520
360037 | 1680 | 0080
360056 | 3200 | 1640 | 1640
430028 | 43 | 6660

b. Correcting the standardized amount MSA reclassification for the following entries:

Provider No. | Published standardized amount MSA reclassification | Corrected standardized amount MSA reclassification
340126 | 6640 | 6895

c. Correcting the wage index MSA reclassification for the following entries:

Provider No. | Published wage index MSA reclassification | Corrected wage index MSA reclassification
010005 | 3440 | 1000
060049 | 2080 | 2670
100217 | 2710 | 4900
100232 | 5790 | 2900
130003 | 50 | 6740
190086 | 5200 | 7680
340039 |  | 1520

d. Deleting the following entries:

Provider No. | Actual MSA or rural area | Wage index MSA reclassification | Standardized amount MSA reclassification
010044 | 01 | 25
100211 | 8280 | 3980
310087 | 8760 | 6160
330386 | 33 | 5660
390197 | 0240 | 6160
390263 | 0240 | 6160
460011 | 46 | 6520

46. On pages 45648 through 45650, Table 10—Mean and .75 Standard Deviation by Diagnosis-Related Group (DRG)—July 2003 is corrected to read:

Table 10.—Mean and .75 Standard Deviation by Diagnosis-Related Group (DRG)—July 2003
DRG | Cases | Mean + .75 standard deviation
1 | 24,267 | $60,950
2 | 11,855 | $35,495
3 | 3 | $38,670
6 | 358 | $13,422
7 | 14,782 | $44,651
8 | 4,189 | $27,349
9 | 1,724 | $22,103
10 | 18,551 | $20,645
11 | 3,276 | $14,588
12 | 52,059 | $14,717
13 | 7,063 | $13,412
14 | 235,629 | $20,649
15 | 92,689 | $16,064
16 | 9,895 | $20,645
17 | 2,722 | $11,711
18 | 29,545 | $16,455
19 | 8,485 | $11,848
20 | 6,179 | $45,939
21 | 1,884 | $24,848
22 | 2,759 | $17,693
23 | 11,165 | $13,566
24 | 58,700 | $16,388
25 | 27,285 | $10,243
26 | 20 | $15,481
27 | 4,447 | $21,583
28 | 13,952 | $21,942
29 | 5,298 | $11,870
30 | 3 | $15,951
31 | 3,927 | $15,129
32 | 1,914 | $9,563
34 | 23,699 | $16,230
35 | 7,411 | $10,739
36 | 2,093 | $10,243
37 | 1,375 | $17,454
38 | 95 | $7,950
39 | 556 | $10,496
40 | 1,550 | $14,867
42 | 1,575 | $11,705
43 | 94 | $9,191
44 | 1,205 | $10,735
45 | 2,656 | $12,162
46 | 3,449 | $13,222
47 | 1,389 | $9,033
49 | 2,381 | $28,970
50 | 2,411 | $13,659
51 | 242 | $14,263
52 | 218 | $13,403
53 | 2,464 | $19,840
55 | 1,481 | $15,300
56 | 471 | $14,360
57 | 708 | $17,369
59 | 114 | $13,104
61 | 253 | $20,533
62 | 2 | $17,648
63 | 3,018 | $22,970
64 | 3,109 | $21,265
65 | 39,944 | $9,647
66 | 7,774 | $9,443
67 | 383 | $12,823
68 | 11,465 | $10,817
69 | 3,694 | $8,350
70 | 31 | $5,312
71 | 79 | $10,701
72 | 959 | $11,421
73 | 7,654 | $13,387
75 | 43,245 | $50,365
76 | 44,348 | $46,358
77 | 2,472 | $20,249
78 | 39,220 | $21,219
79 | 167,196 | $26,768
80 | 7,929 | $14,141
81 | 5 | $17,492
82 | 63,922 | $23,263
83 | 6,703 | $15,965
84 | 1,598 | $9,061
85 | 22,136 | $19,978
86 | 2,226 | $11,541
87 | 60,498 | $22,477
88 | 398,325 | $14,903
89 | 525,617 | $17,228
90 | 47,542 | $10,197
91 | 44 | $11,589
92 | 15,657 | $20,101
93 | 1,752 | $12,148
94 | 12,763 | $18,831
95 | 1,650 | $10,312
96 | 56,023 | $12,449
97 | 28,360 | $9,184
98 | 9 | $11,369
99 | 21,198 | $11,730
100 | 8,182 | $8,813
101 | 22,194 | $14,311
102 | 5,584 | $9,146
103 | 495 | $306,011
104 | 20,506 | $130,419
105 | 28,981 | $93,467
106 | 3,483 | $119,674
107 | 82,849 | $87,235
108 | 6,471 | $91,161
109 | 57,053 | $64,104
110 | 54,627 | $67,935
111 | 9,477 | $42,482
113 | 39,525 | $46,445
114 | 8,280 | $27,158
115 | 19,730 | $59,709
116 | 115,521 | $39,243
117 | 4,698 | $22,635
118 | 8,243 | $27,186
119 | 1,239 | $21,882
120 | 38,097 | $37,461
121 | 162,443 | $25,794
122 | 76,199 | $16,778
123 | 38,308 | $25,403
124 | 135,070 | $23,506
125 | 91,605 | $18,143
126 | 5,371 | $42,207
127 | 667,674 | $16,687
128 | 7,104 | $11,969
129 | 3,828 | $16,850
130 | 88,024 | $15,441
131 | 26,812 | $9,413
132 | 141,313 | $10,559
133 | 8,584 | $9,090
134 | 40,950 | $9,979
135 | 7,749 | $14,879
136 | 1,177 | $9,660
138 | 206,600 | $13,753
139 | 86,760 | $8,638
140 | 54,470 | $8,802
141 | 108,038 | $12,460
142 | 52,222 | $9,661
143 | 247,984 | $9,176
144 | 94,294 | $19,911
145 | 7,277 | $9,758
146 | 10,717 | $45,045
147 | 2,622 | $25,606
148 | 133,149 | $55,961
149 | 19,992 | $23,891
150 | 21,026 | $47,648
151 | 5,108 | $21,887
152 | 4,537 | $31,514
153 | 2,042 | $18,743
154 | 28,242 | $66,985
155 | 6,581 | $21,615
156 | 4 | $13,610
157 | 8,229 | $21,199
158 | 4,302 | $10,898
159 | 18,005 | $22,652
160 | 12,068 | $13,727
161 | 10,697 | $18,978
162 | 6,319 | $10,842
163 | 8 | $8,496
164 | 5,354 | $38,494
165 | 2,318 | $20,220
166 | 4,177 | $23,548
167 | 4,064 | $14,643
168 | 1,430 | $21,184
169 | 808 | $12,591
170 | 15,615 | $46,595
171 | 1,508 | $20,124
172 | 31,193 | $22,687
173 | 2,456 | $12,789
174 | 249,690 | $16,591
175 | 34,572 | $9,382
176 | 13,384 | $17,977
177 | 9,012 | $15,382
178 | 3,345 | $11,611
179 | 13,115 | $17,902
180 | 89,518 | $15,767
181 | 26,863 | $9,013
182 | 270,142 | $13,570
183 | 90,281 | $9,726
184 | 75 | $7,829
185 | 5,350 | $14,122
186 | 6 | $13,840
187 | 632 | $13,047
188 | 83,496 | $18,050
189 | 13,002 | $10,094
190 | 76 | $13,314
191 | 9,509 | $70,693
192 | 1,318 | $30,582
193 | 4,791 | $56,646
194 | 646 | $27,181
195 | 3,986 | $50,267
196 | 985 | $26,442
197 | 18,180 | $42,215
198 | 5,338 | $20,057
199 | 1,639 | $40,105
200 | 1,076 | $48,840
201 | 2,132 | $60,824
202 | 26,597 | $21,538
203 | 29,851 | $22,690
204 | 65,032 | $18,780
205 | 27,308 | $19,560
206 | 2,040 | $11,756
207 | 32,486 | $19,030
208 | 10,054 | $11,133
209 | 397,136 | $32,251
210 | 122,325 | $29,402
211 | 29,910 | $20,102
212 | 10 | $24,400
213 | 9,941 | $30,927
216 | 8,759 | $35,017
217 | 17,302 | $48,569
218 | 23,856 | $26,012
219 | 19,900 | $16,947
223 | 13,264 | $17,479
224 | 11,697 | $13,087
225 | 6,458 | $19,210
226 | 5,850 | $25,118
227 | 4,833 | $13,561
228 | 2,523 | $19,156
229 | 1,259 | $11,806
230 | 2,453 | $21,335
232 | 817 | $15,763
233 | 9,955 | $33,217
234 | 5,357 | $20,460
235 | 5,077 | $12,131
236 | 39,734 | $11,649
237 | 1,762 | $9,959
238 | 8,853 | $22,389
239 | 45,836 | $17,055
240 | 11,991 | $20,968
241 | 3,139 | $10,476
242 | 2,575 | $18,916
243 | 95,842 | $12,511
244 | 14,536 | $11,855
245 | 5,794 | $8,060
246 | 1,483 | $9,996
247 | 20,262 | $9,546
248 | 13,801 | $14,154
249 | 12,889 | $10,969
250 | 3,771 | $11,727
251 | 2,358 | $7,723
253 | 21,978 | $12,388
254 | 10,705 | $7,450
256 | 6,679 | $13,456
257 | 15,630 | $14,551
258 | 15,172 | $11,527
259 | 3,515 | $15,356
260 | 4,202 | $11,332
261 | 1,785 | $14,931
262 | 663 | $15,556
263 | 23,018 | $32,927
264 | 3,859 | $17,783
265 | 4,097 | $25,386
266 | 2,544 | $14,569
267 | 240 | $16,311
268 | 921 | $19,160
269 | 9,800 | $28,934
270 | 2,790 | $13,512
271 | 19,129 | $16,800
272 | 5,696 | $16,372
273 | 1,322 | $10,402
274 | 2,283 | $19,471
275 | 227 | $9,759
276 | 1,315 | $10,938
277 | 99,585 | $14,304
278 | 31,973 | $9,001
279 | 10 | $12,862
280 | 17,758 | $11,723
281 | 7,518 | $8,138
283 | 6,010 | $11,903
284 | 2,013 | $7,089
285 | 6,942 | $34,194
286 | 2,497 | $33,219
287 | 6,223 | $30,590
288 | 5,643 | $35,074
289 | 6,933 | $15,251
290 | 9,910 | $14,457
291 | 59 | $10,867
292 | 6,506 | $45,369
293 | 366 | $23,584
294 | 97,377 | $12,578
295 | 3,548 | $13,073
296 | 277,113 | $14,025
297 | 47,860 | $8,433
298 | 115 | $7,607
299 | 1,268 | $15,188
300 | 18,635 | $18,300
301 | 3,592 | $10,394
302 | 8,919 | $52,568
303 | 21,743 | $38,927
304 | 12,600 | $38,885
305 | 3,040 | $19,958
306 | 7,011 | $20,007
307 | 2,011 | $10,074
308 | 7,246 | $25,931
309 | 4,147 | $15,113
310 | 24,762 | $18,844
311 | 7,439 | $10,426
312 | 1,516 | $17,596
313 | 554 | $11,488
314 | 2 | $322,531
315 | 34,014 | $33,973
316 | 118,639 | $21,267
317 | 2,029 | $13,340
318 | 5,737 | $19,749
319 | 408 | $11,321
320 | 185,666 | $14,359
321 | 30,824 | $9,396
322 | 54 | $7,725
323 | 19,804 | $13,565
324 | 6,943 | $8,142
325 | 9,200 | $10,835
326 | 2,722 | $7,123
327 | 7 | $5,731
328 | 742 | $12,602
329 | 91 | $8,723
331 | 51,130 | $17,377
332 | 4,964 | $10,097
333 | 268 | $14,821
334 | 10,503 | $24,076
335 | 12,644 | $17,706
336 | 35,736 | $13,949
337 | 29,363 | $9,573
338 | 930 | $19,992
339 | 1,475 | $18,262
341 | 3,579 | $21,414
342 | 687 | $12,913
344 | 3,568 | $22,429
345 | 1,361 | $18,321
346 | 4,823 | $17,335
347 | 311 | $9,389
348 | 3,394 | $12,387
349 | 611 | $7,947
350 | 6,669 | $12,143
352 | 956 | $11,679
353 | 2,555 | $29,268
354 | 7,393 | $23,963
355 | 5,523 | $14,500
356 | 25,715 | $12,441
357 | 5,609 | $37,303
358 | 21,488 | $19,224
359 | 31,686 | $13,249
360 | 15,637 | $14,188
361 | 344 | $17,957
362 | 5 | $13,102
363 | 2,508 | $15,450
364 | 1,624 | $14,985
365 | 1,828 | $33,961
366 | 4,555 | $20,584
367 | 481 | $9,537
368 | 3,547 | $19,121
369 | 3,462 | $10,155
370 | 1,377 | $15,561
371 | 1,735 | $10,212
372 | 965 | $8,800
373 | 4,195 | $6,098
374 | 99 | $11,825
376 | 328 | $8,877
377 | 53 | $17,821
378 | 171 | $12,848
379 | 360 | $5,868
380 | 96 | $7,077
381 | 194 | $8,851
382 | 49 | $3,600
383 | 2,009 | $8,066
384 | 133 | $5,926
385 | 2 | $22,090
392 | 2,277 | $53,937
394 | 2,592 | $31,013
395 | 106,920 | $13,517
396 | 19 | $11,854
397 | 18,865 | $19,906
398 | 18,054 | $20,397
399 | 1,675 | $11,244
401 | 5,843 | $48,194
402 | 1,464 | $19,205
403 | 31,718 | $29,897
404 | 4,318 | $14,782
406 | 2,416 | $44,198
407 | 641 | $20,591
408 | 2,107 | $35,182
409 | 2,155 | $20,799
410 | 28,305 | $18,044
411 | 7 | $6,308
412 | 17 | $9,840
413 | 5,303 | $22,045
414 | 632 | $12,457
415 | 43,248 | $59,623
416 | 190,961 | $25,953
417 | 41 | $16,917
418 | 25,757 | $17,318
419 | 16,258 | $14,095
420 | 3,154 | $10,282
421 | 10,646 | $11,935
422 | 68 | $10,056
423 | 8,039 | $28,618
424 | 1,258 | $39,774
425 | 16,028 | $11,214
426 | 4,549 | $8,538
427 | 1,600 | $8,463
428 | 793 | $11,410
429 | 27,000 | $13,332
430 | 64,921 | $11,267
431 | 316 | $10,220
432 | 448 | $10,690
433 | 5,537 | $4,752
439 | 1,516 | $27,413
440 | 5,775 | $29,517
441 | 684 | $15,097
442 | 17,534 | $39,029
443 | 3,910 | $16,540
444 | 5,723 | $12,286
445 | 2,544 | $8,456
447 | 6,473 | $8,222
449 | 32,997 | $13,374
450 | 7,419 | $7,054
452 | 25,608 | $16,753
453 | 5,670 | $8,623
454 | 4,756 | $13,210
455 | 1,066 | $8,058
461 | 4,964 | $19,286
462 | 9,653 | $16,368
463 | 26,785 | $11,378
464 | 7,137 | $8,327
465 | 197 | $10,114
466 | 1,716 | $11,143
467 | 1,099 | $7,982
468 | 51,309 | $63,557
470 | 860 | $28,413
471 | 13,222 | $48,749
473 | 8,064 | $53,842
475 | 109,073 | $61,001
476 | 3,631 | $38,059
477 | 26,262 | $30,961
478 | 107,707 | $39,719
479 | 23,849 | $24,028
480 | 627 | $160,255
481 | 861 | $105,050
482 | 5,284 | $57,555
483 | 45,589 | $273,650
484 | 345 | $91,730
485 | 3,244 | $52,335
486 | 2,218 | $81,989
487 | 3,885 | $32,670
488 | 752 | $79,121
489 | 13,365 | $29,515
490 | 5,439 | $17,149
491 | 15,267 | $27,730
492 | 3,092 | $62,862
493 | 59,236 | $30,239
494 | 28,580 | $16,623
495 | 199 | $139,829
496 | 2,489 | $95,191
497 | 21,941 | $56,996
498 | 15,707 | $42,663
499 | 34,575 | $23,446
500 | 49,702 | $15,440
501 | 2,596 | $42,839
502 | 774 | $23,764
503 | 5,957 | $20,407
504 | 128 | $203,606
505 | 136 | $26,710
506 | 923 | $68,196
507 | 343 | $30,206
508 | 622 | $21,886
509 | 156 | $10,594
510 | 1,634 | $18,264
511 | 586 | $10,560
512 | 505 | $87,711
513 | 214 | $97,229
515 | 8,235 | $91,055
516 | 33,015 | $38,062
517 | 68,536 | $30,211
518 | 48,849 | $29,634
519 | 9,009 | $40,231
520 | 12,990 | $26,021
521 | 30,580 | $11,606
522 | 5,993 | $8,691
523 | 15,190 | $6,564
524 | 131,223 | $12,175
525 | 583 | $195,369
526 | 51,533 | $41,296
527 | 135,957 | $33,156
528 | 1,591 | $122,442
529 | 3,656 | $36,874
530 | 2,681 | $19,867
531 | 3,839 | $51,789
532 | 2,961 | $24,910
533 | 43,024 | $27,417
534 | 51,857 | $17,726
535 | 6,061 | $135,910
536 | 20,673 | $104,255
537 | 6,861 | $30,151
538 | 6,415 | $16,597
539 | 4,443 | $55,375
540 | 1,884 | $21,594

47. On pages 45661 through 45662, in Table I—Impact Analysis of Final Changes for FY 2004 Operating Prospective Payment System (Percent of Changes in Payments per Case), columns 4 and 10 are corrected to read as follows:

Table I.—Impact Analysis of Final Changes For FY 2004 Operating Prospective Payment System
(Percent changes in payments per case)
| Published new wage data) ⁴ | Corrected new wage data ⁴ | Published all FY 2004 changes ¹⁰ | Corrected all FY 2004 changes ¹⁰
| (4) | (4) | (10) | (10)
By Geographic Location
All hospitals | −0.3 | −0.2 | 1.8 | 1.8
Urban hospitals | −0.3 | −0.2 | 1.2 | 1.2
Large urban areas(populations over 1 million) | −0.3 | −0.2 | 1.1 | 1.1
Other urban areas(populations of 1 million of fewer) | −0.3 | −0.3 | 1.4 | 1.4
Rural hospitals | −0.3 | 0.1 | 5.8 | 5.9
Bed Size (Urban):
0-99 beds | 0.0 | 0.1 | 2.1 | 2.1
100-199 beds | −0.3 | −0.2 | 1.2 | 1.2
200-299 beds | −0.3 | −0.3 | 1.4 | 1.4
300-499 beds | −0.1 | 0.0 | 0.8 | 0.8
500 or more beds | −0.7 | −0.6 | 1.4 | 1.4
Bed Size (Rural):
0-49 beds | −0.4 | 0.1 | 6.0 | 5.8
50-99 beds | −0.3 | 0.1 | 6.2 | 6.1
100-149 beds | −0.4 | 0.0 | 6.0 | 6.1
150-199 beds | −0.2 | 0.4 | 4.4 | 4.7
200 or more beds | −0.1 | 0.2 | 5.7 | 6.1
Urban by Region:
New England | −0.3 | −0.5 | 2.8 | 2.8
Middle Atlantic | −0.9 | −0.8 | −2.8 | −2.7
South Atlantic | −0.1 | −0.1 | 2.7 | 2.6
East North Central | −0.6 | −0.6 | 2.7 | 2.6
East South Central | 0.1 | 0.2 | 2.9 | 2.8
West North Central | 0.0 | 0.1 | 3.1 | 3.1
West South Central | −0.1 | 0.0 | 1.6 | 1.5
Mountain | 0.5 | 0.8 | 4.4 | 4.3
Pacific | −0.1 | 0.1 | −0.6 | −0.6
Puerto Rico | −0.3 | −0.2 | 2.8 | 2.7
Rural by Region:
New England | −0.2 | 0.2 | 6.8 | 6.7
Middle Atlantic | −0.4 | −0.3 | 4.1 | 4.0
South Atlantic | −0.1 | 0.2 | 5.3 | 5.6
East North Central | 0.1 | 0.5 | 4.5 | 5.0
East South Central | −0.4 | −0.2 | 4.7 | 4.7
West North Central | −0.1 | 0.7 | 7.9 | 7.8
West South Central | −0.6 | −0.2 | 5.8 | 5.7
Mountain | −0.3 | 0.0 | 7.1 | 6.8
Pacific | −0.6 | 0.0 | 8.7 | 8.5
Puerto Rico | −4.2 | −4.3 | −0.3 | −0.4
By Payment Classification:
Urban hospitals | −0.3 | −0.2 | 1.2 | 1.3
Large urban areas (populations over 1 million) | −0.3 | −0.2 | 1.2 | 1.3
Other urban areas (populations of 1 million of fewer) | −0.3 | −0.3 | 1.3 | 1.2
Rural areas | −0.3 | 0.1 | 5.9 | 5.8
Teaching Status:
Non-teaching | −0.2 | 0.0 | 2.6 | 2.6
Fewer than 100 Residents | −0.2 | 0.0 | 1.3 | 1.3
100 or more Residents | −0.7 | −0.7 | 1.2 | 1.3
Urban DSH:
Non-DSH | −0.2 | 0.0 | 2.5 | 2.5
100 or more beds | −0.4 | −0.3 | 0.9 | 1.0
Less than 100 beds | −0.1 | 0.1 | 0.9 | 0.8
Rural DSH:
Sole Community (SCH) | −0.2 | 0.0 | 10.0 | 9.7
Referral Center (RRC) | −0.3 | 0.2 | 4.5 | 4.5
Other Rural: 100 or more beds | −0.7 | −0.3 | 2.5 | 2.5
Less than 100 beds | −0.6 | −0.1 | 2.8 | 2.6
Urban teaching and DSH:
DSH | −0.4 | −0.3 | 0.9 | 0.9
Teaching and no DSH | −0.3 | −0.2 | 2.1 | 2.1
No teaching and DSH | −0.3 | −0.2 | 1.0 | 1.0
No teaching and no DSH | −0.1 | 0.0 | 1.8 | 1.8
Rural Hospital Types:
Non special status hospitals | −0.5 | −0.1 | 2.7 | 2.8
RRC | −0.2 | 0.5 | 3.5 | 3.5
SCH | −0.1 | 0.0 | 10.8 | 10.5
Medicare-dependent hospitals (MDH) | −0.5 | 0.2 | 3.3 | 3.1
SCH and RRC | −0.2 | 0.0 | 7.4 | 7.2
Type of Ownership:
Voluntary | −0.3 | −0.2 | 2.2 | 2.2
Proprietary | 0.0 | 0.1 | −2.1 | −2.2
Government | −0.4 | −0.2 | 4.0 | 4.0
Unknown 5 | −1.0 | −0.9 | 3.5 | 3.5
Medicare Utilization as a Percent of Inpatient Days:
0-25 | 0.1 | 0.3 | 2.5 | 2.5
25-50 | −0.4 | −0.3 | 1.2 | 1.2
50-65 | −0.3 | −0.2 | 2.8 | 2.8
Over 65 | −0.2 | 0.0 | 1.1 | 1.1
Unknown | 0.1 | 0.3 | 1.7 | 1.7
Hospitals Reclassified by the Medicare Geographic Classification Review Board: FY 2004 Reclassifications:
All Reclassified Hospitals | −0.3 | 0.1 | 2.6 | 2.7
Standardized Amount Only | −0.8 | −0.4 | 5.4 | 5.4
Wage Index Only | −0.3 | 0.0 | 1.9 | 2.0
Both | −0.3 | 0.1 | 4.1 | 5.8
Nonreclassified Hospitals | −0.3 | −0.2 | 1.8 | 1.8
All Reclassified Urban Hospitals | −0.3 | −0.2 | −1.8 | −1.8
Standardized Amount Only | −0.9 | −0.8 | −4.6 | 4.8
Wage Index Only | −0.3 | −0.3 | −4.1 | −4.2
Both | 0.1 | 0.2 | 4.1 | 4.1
Urban Nonreclassified Hospitals | −0.3 | −0.2 | 1.4 | 1.4
All Reclassified Rural Hospitals | −0.2 | 0.2 | 5.5 | 5.7
Standardized Amount Only | −0.1 | 0.4 | 2.3 | 6.9
Wage Index Only | −0.3 | 0.2 | 5.7 | 5.6
Both | 0.0 | 0.6 | 5.4 | 5.4
Rural Nonreclassified Hospitals | −0.3 | 0.0 | 6.2 | 6.2
Other Reclassified Hospitals (Section 1886(D)(8)(B)) | 0.0 | −0.3 | 3.0 | 3.5
⁴ This column displays the impact of updating the wage index with wage data from hospitals' FY 2000 cost reports.
¹⁰ This column shows changes in payments from FY 2003 to FY 2004. It incorporates all of the changes displayed in columns 2, 3, and 8 of the final rule (the changes displayed in columns 4, 5, and 6 are included in column 8). It also reflects the impact of the FY 2004 update, changes in hospitals' reclassification status in FY 2004 compared to FY 2003, and the difference in outlier payments from FY 2003 to FY 2004. The sum of these impacts may be different from the percentage changes shown here due to rounding and interactive effect.

48. On page 45662, in Table I—Impact Analysis of Final Changes for FY 2004 Operating Prospective Payment System (Percent of Changes in Payments per Case), line 39 (All Reclassified Hospitals—Standardized Amount Only), column 10 the figure “−4.6” is corrected to read “4.6”.

49. On page 45664, bottom half of the page,

a. First column, second full paragraph, line 13, the figure “1.005522” is corrected to read “1.002588”.

b. Second column, second full paragraph, lines 8 and 9, the figure “$ 4.4 million” is corrected to read “2.2 million”; and

c. Third column, first partial paragraph, line 1, the figure “1.005522” is corrected to read “1.002588”.

50. On page 45670, first column, first paragraph, fourth bulleted item,

a. Line 4, the figure “1.0059” is corrected to read “1.0026”; and

b. Line 5, the figure “0.9522” is corrected to read “0.9523”.

III. Waiver of Proposed Rulemaking and Delay in Effective Date

We ordinarily publish a notice of proposed rulemaking in the Federal Register to provide a period for public comment before the provisions of a document take effect. However, we can waive this procedure, if we find good cause that notice and comment procedure is impracticable, unnecessary, or contrary to the public interest and incorporate a statement of the finding and the reasons for it into the notice issued. We can also waive the 30-day delayed effective date of the Administrative Procedure Act (5 U.S.C. 553(d)) when there is good cause to do so and we publish in the rule an explanation of our good cause.

In this document, we are correcting an error related to our discussion of DRG 525, and the assignment of procedure code 37.62. In light of the much lower charges associated with code 37.62, we are removing all cases with code 37.62 from DRG 525 and reassigning them to DRGs 104 and 105. This correction is necessary to ensure adequate payment for this procedure and for the other procedures that will continue to be assigned to DRG 525. Especially because these are frequently life-saving procedures, it is important that the Medicare payment amount better reflect hospitals' true costs in performing these procedures. We are concerned that, without this correction, payments for the other procedures in DRG 525, particularly procedure code 37.66, will be inadequate. As a result, Medicare beneficiaries' access to these important procedures could be limited. Accordingly, we believe there is a compelling public interest to waive notice and comment rulemaking, as well as the 30-day delay in effective date, for this correction.

We also find it unnecessary to undertake notice and comment rulemaking with respect to the other corrections contained in this document because the remainder of this document merely provides technical corrections to the final rule. We are merely correcting computational or technical errors and making a variety of typographical and grammatical corrections. We are not making changes to payment methodology or payment policy. For example, our changes to the hospital wage index and budget neutrality factor are based upon computational methodologies for which we previously provided notice and received comments. By correcting these data we are not announcing new computational methodologies, but merely ensuring that the data used in the calculations are correct. Similarly, our changes to the add-on payment for InFUSE merely incorporate the correct data into our previously published methodologies for calculating add-on payments. Thus, because the public has already had the opportunity to comment on the payment methodology used in IPPS, additional comment would be unnecessary.

In addition, we believe it is impracticable at this point in time to solicit additional comments or to delay the effective date of these corrections beyond October 1, 2003. The Social Security Act, in section 1886(d)(3), requires a national adjusted DRG prospective payment rate to be in place at the beginning of the fiscal year. Because the fiscal year begins on October 1, 2003, it is imperative that we ensure that the correct rates are in place by October 1, 2003, and it would not have been possible to publish a notice and receive comments on it in the brief period of time between discovering our errors and the October 1, 2003 effective date for the updated IPPS rates.

Finally, we believe that engaging in notice and comment prior to making these corrections or delaying the effective date beyond October 1, 2003 would be contrary to the public interest. As a matter of good public policy, the rates used in the IPPS should not be based on miscalculations or inappropriate data. The public interest is served by ensuring that the rates used in the IPPS are correct. Thus, it would be contrary to the public interest to delay implementing such corrected rates in order either to engage in notice and comment rulemaking or to provide for a 30-day delay in effective date. Therefore, we find good cause to waive notice and comment procedures, as well as the 30-day delay in effective date.

(Catalog of Federal Domestic Assistance Program No. 93.773, Medicare—Hospital Insurance; and Program No. 93.774, Medicare—Supplementary Medical Insurance Program)

Dated: Sepember 30, 2003.
Ann C. Agnew,
Executive Secretary to the Department.

[FR Doc. 03-25192 Filed 9-30-03; 3:27 pm]

BILLING CODE 4120-01-P